DEPARTMENT OF EDUCATION

Notice of Waivers Granted Under Section 9401 of the Elementary and Secondary Education Act of 1965, as Amended

SUMMARY: In this notice, we announce the waivers that the U.S. Department of Education (Department) granted during calendar year 2009 under the waiver authority in section 9401 of the Elementary and Secondary Education Act of 1965, as amended (ESEA). We also announce waivers that the Department granted under the waiver authority in section 9401 for Title I, Part A programs for funding provided through the American Recovery and Reinvestment Act of 2009 (ARRA).

SUPPLEMENTARY INFORMATION: In 2009, the Department granted a total of 351 waivers under the waiver authority in section 9401 of the ESEA. The waivers granted were as follows: (1) Two waivers extending the period in which funds are available for obligation for various programs due to Hurricanes Katrina and Rita, twenty-seven waivers extending the period in which funds are available for obligation for the Reading First program, and three waivers extending the period in which funds are available for obligation for School Improvement activities; (2) four waivers allowing implementation of the “growth model pilot;” (3) three waivers allowing implementation of the “differentiated accountability model pilot;” (4) one waiver allowing a substitute assessment; (5) four waivers allowing delayed release of assessment results; (6) two waivers of the adequate yearly progress (AYP) determinations; (7) two Title I, Part A within-district allocation waivers; (8) one waiver of the Title I carryover limitation; (9) nineteen waivers to local educational agencies (LEAs) identified for improvement to exclude their Title I, Part A allocation when calculating their obligation to spend 10 percent of their Title I funds for professional development; (10) one waiver of the ESEA transferability rules; (11) four waivers allowing recipients of funds under the Indian Education program to charge additional administrative costs to the program; (12) twenty-three waivers of the requirement to provide 14-day notice of public school choice; (13) twenty-eight waivers allowing State educational agencies (SEAs) to approve schools or LEAs in need of improvement to become supplemental educational services (SES) providers; (14) twenty-five new waivers and six continuations of existing waivers allowing LEAs to provide SES to eligible students attending schools that receive funding under Title I, Part A of the ESEA (Title I schools) and are in the first year of school improvement and to count the costs of both toward meeting the LEA's “20 percent obligation”; and (15) one hundred and ninety-six waivers allowing LEAs and/or schools to exclude their Title I, Part A allocation received under ARRA when calculating their obligation to spend their funds for public school choice and professional development and when calculating the per-pupil amount for SES, and to waive the carryover limitation more than once every three years.

Waiver Data:

I. Extensions of the Obligation Period

A. Waivers Related to Hurricanes Katrina and Rita

1. Waiver Applicant: Louisiana Department of Education

• Provision waived: Tydings Amendment, section 421(b) of the General Education Provisions Act (GEPA).

• Date waiver granted: October 19, 2009.

• Description of waiver: Extended until December 31, 2009 the period of availability for fiscal year 2007 funds for various programs authorized under the ESEA, specifically Title I, Part A, Improving Basic Programs Operated by Local Educational Agencies; Title I, Part A, School Improvement under Section 1003(a); Title I, Part A, School Improvement Grants under Section 1003(g); Title I, Part B, Subpart 1, Reading First; Title I, Part D, Neglected and Delinquent State Agency and Local Educational Agency Program; Title II Part A, Improving Teacher Quality State Grants; Title II Part B, Sections 2201-2203, Mathematics and Science Partnerships; Title II, Part D, Enhancing Education Through Technology State Grants; Title III, English Language Acquisition State Grants; and Title IV, Safe and Drug-Free Schools and Communities.

2. Waiver Applicant: Louisiana Department of Education

• Provision waived: Tydings Amendment, section 421(b) of the General Education Provisions Act (GEPA).

• Date waiver granted: October 19, 2009.

• Description of waiver: Extended until September 30, 2010 the period of availability for fiscal year 2007 funds for the 21st Century Community Learning Centers grant authorized under the ESEA.

B. Waivers for the Reading First Program

1. Waiver Applicant: Alabama Department of Education

• Provision waived: Tydings Amendment, section 421(b) of GEPA.

• Date waiver granted: June 22, 2009.

• Description of waiver: Extended until September 30, 2010 the period of availability for fiscal year 2007 Reading First funds.

2. Waiver Applicant: Alaska Department of Education

• Provision waived: Tydings Amendment, section 421(b) of GEPA.

• Date waiver granted: August 12, 2009.

• Description of waiver: Extended until September 30, 2010 the period of availability for fiscal year 2007 Reading First funds.

3. Waiver Applicant: Arizona Department of Education

• Provision waived: Tydings Amendment, section 421(b) of GEPA.

• Date waiver granted: July 30, 2009.

• Description of waiver: Extended until September 30, 2010 the period of availability for fiscal year 2007 Reading First funds.

4. Waiver Applicant: Arkansas Department of Education

• Provision waived: Tydings Amendment, section 421(b) of GEPA.

• Date waiver granted: June 17, 2009.

• Description of waiver: Extended until September 30, 2010 the period of availability for fiscal year 2007 Reading First funds.

5. Waiver Applicant: Colorado Department of Education

• Provision waived: Tydings Amendment, section 421(b) of GEPA.

• Date waiver granted: July 30, 2009.

• Description of waiver: Extended until September 30, 2010 the period of availability for fiscal year 2007 Reading First funds.

6. Waiver Applicant: Georgia Department of Education

• Provision waived: Tydings Amendment, section 421(b) of GEPA.

• Date waiver granted: June 10, 2009.

• Description of waiver: Extended until September 30, 2010 the period of availability for fiscal year 2007 Reading First funds.

7. Waiver Applicant: Illinois State Board of Education

• Provision waived: Tydings Amendment, section 421(b) of GEPA.

• Date waiver granted: June 17, 2009.

• Description of waiver: Extended until September 30, 2010 the period of availability for fiscal year 2007 Reading First funds.

8. Waiver Applicant: Indiana Department of Education

• Provision waived: Tydings Amendment, section 421(b) of GEPA.

• Date waiver granted: September 1, 2009.

• Description of waiver: Extended until September 30, 2010 the period of availability for fiscal year 2007 Reading First funds.

9. Waiver Applicant: Kentucky Department of Education

• Provision waived: Tydings Amendment, section 421(b) of GEPA.

• Date waiver granted: July 27, 2009.

• Description of waiver: Extended until September 30, 2010 the period of availability for fiscal year 2007 Reading First funds.

10. Waiver Applicant: Maine Department of Education

• Provision waived: Tydings Amendment, section 421(b) of GEPA.

• Date waiver granted: June 30, 2009.

• Description of waiver: Extended until September 30, 2010 the period of availability for fiscal year 2007 Reading First funds.

11. Waiver Applicant: Massachusetts Department of Education

• Provision waived: Tydings Amendment, section 421(b) of GEPA.

• Date waiver granted: May 27, 2009.

• Description of waiver: Extended until September 30, 2010 the period of availability for fiscal year 2007 Reading First funds.

12. Waiver Applicant: Mississippi Department of Education

• Provision waived: Tydings Amendment, section 421(b) of GEPA.

• Date waiver granted: June 26, 2009.

• Description of waiver: Extended until September 30, 2010 the period of availability for fiscal year 2007 Reading First funds.

13. Waiver Applicant: New Jersey Department of Education

• Provision waived: Tydings Amendment, section 421(b) of GEPA.

• Date waiver granted: June 30, 2009.

• Description of waiver: Extended until September 30, 2010 the period of availability for fiscal year 2007 Reading First funds.

14. Waiver Applicant: New Mexico Department of Education

• Provision waived: Tydings Amendment, section 421(b) of GEPA.

• Date waiver granted: August 12, 2009.

• Description of waiver: Extended until September 30, 2010 the period of availability for fiscal year 2007 Reading First funds.

15. Waiver Applicant: North Carolina Department of Public Instruction

• Provision waived: Tydings Amendment, section 421(b) of GEPA.

• Date waiver granted: August 13, 2009.

• Description of waiver: Extended until September 30, 2010 the period of availability for fiscal year 2007 Reading First funds.

16. Waiver Applicant: North Dakota Department of Public Instruction

• Provision waived: Tydings Amendment, section 421(b) of GEPA.

• Date waiver granted: July 30, 2009.

• Description of waiver: Extended until September 30, 2010 the period of availability for fiscal year 2007 Reading First funds.

17. Waiver Applicant: Ohio Department of Education

• Provision waived: Tydings Amendment, section 421(b) of GEPA.

• Date waiver granted: October 2, 2009.

• Description of waiver: Extended until September 30, 2010 the period of availability for fiscal year 2007 Reading First funds.

18. Waiver Applicant: Oregon Department of Education

• Provision waived: Tydings Amendment, section 421(b) of GEPA.

• Date waiver granted: August 12, 2009.

• Description of waiver: Extended until September 30, 2010 the period of availability for fiscal year 2007 Reading First funds.

19. Waiver Applicant: Pennsylvania Department of Education

• Provision waived: Tydings Amendment, section 421(b) of GEPA.

• Date waiver granted: August 12, 2009.

• Description of waiver: Extended until September 30, 2010 the period of availability for fiscal year 2007 Reading First funds.

20. Waiver Applicant: Rhode Island Department of Education

• Provision waived: Tydings Amendment, section 421(b) of GEPA.

• Date waiver granted: August 12, 2009.

• Description of waiver: Extended until September 30, 2010 the period of availability for fiscal year 2007 Reading First funds.

21. Waiver Applicant: South Carolina Department of Education

• Provision waived: Tydings Amendment, section 421(b) of GEPA.

• Date waiver granted: September 23, 2009.

• Description of waiver: Extended until September 30, 2010 the period of availability for fiscal year 2007 Reading First funds.

22. Waiver Applicant: South Dakota Department of Education

• Provision waived: Tydings Amendment, section 421(b) of GEPA.

• Date waiver granted: July 31, 2009.

• Description of waiver: Extended until September 30, 2010 the period of availability for fiscal year 2007 Reading First funds.

23. Waiver Applicant: Texas Education Agency

• Provision waived: Tydings Amendment, section 421(b) of GEPA.

• Date waiver granted: August 13, 2009.

• Description of waiver: Extended until September 30, 2010 the period of availability for fiscal year 2007 Reading First funds.

24. Waiver Applicant: Vermont Department of Education

• Provision waived: Tydings Amendment, section 421(b) of GEPA.

• Date waiver granted: June 10, 2009.

• Description of waiver: Extended until September 30, 2010 the period of availability for fiscal year 2007 Reading First funds.

25. Waiver Applicant: Washington Department of Education

• Provision waived: Tydings Amendment, section 421(b) of GEPA.

• Date waiver granted: August 12, 2009.

• Description of waiver: Extended until September 30, 2010 the period of availability for fiscal year 2007 Reading First funds.

26. Waiver Applicant: West Virginia Department of Education

• Provision waived: Tydings Amendment, section 421(b) of GEPA.

• Date waiver granted: June 22, 2009.

• Description of waiver: Extended until September 30, 2010 the period of availability for fiscal year 2007 Reading First funds.

27. Waiver Applicant: Wyoming Department of Education

• Provision waived: Tydings Amendment, section 421(b) of GEPA.

• Date waiver granted: July 31, 2009.

• Description of waiver: Extended until September 30, 2010 the period of availability for fiscal year 2007 Reading First funds.

C. Waivers for the School Improvement Program

1. Waiver Applicant: California Department of Education

• Provision waived: Tydings Amendment, section 421(b) of GEPA.

• Date waiver granted: May 4, 2009.

• Description of waiver: Extended until March 31, 2010 the period of availability for fiscal year 2006 Title I, Part A funds reserved for school improvement activities under section 1003(a) of the ESEA.

2. Waiver Applicant: California Department of Education

• Provision waived: Tydings Amendment, section 421(b) of GEPA.

• Date waiver granted: October 30, 2009.

• Description of waiver: Extended until September 30, 2010 the period of availability for fiscal year 2007 Title I, Part A funds reserved for school improvement activities under section 1003(g) of the ESEA.

3. Waiver Applicant: New York Department of Education

• Provision waived: Tydings Amendment, section 421(b) of GEPA.

• Date waiver granted: September 30, 2009.

• Description of waiver: Extended until March 31, 2010 the period of availability for fiscal year 2007 Title I, Part A funds reserved for school improvement activities under section 1003(g) of the ESEA.

II. “Growth Model Pilots”

1. Waiver Applicant: Colorado Department of Education

• Provision waived: Section 1111(b)(2) of the ESEA.

• Date waiver granted: January 8, 2009.

• Description of waiver: Provided Colorado the flexibility to implement a growth-based accountability model as part of determining adequate yearly progress (AYP) for the 2009-2010 school year, based on assessments administered in the 2008-2009 school year.

2. Waiver Applicant: Minnesota Department of Education

• Provision waived: Section 1111(b)(2) of the ESEA.

• Date waiver granted: January 8, 2009.

• Description of waiver: Provided Minnesota the flexibility to implement a growth-based accountability model as part of determining AYP beginning in the 2009-2010 school year through the 2012-2013 school year based on assessments administered in the 2008-2009 school year through the 2011-2012 school year.

3. Waiver Applicant: Pennsylvania Department of Education

• Provision waived: Section 1111(b)(2) of the ESEA.

• Date waiver granted: January 8, 2009.

• Description of waiver: Provided Pennsylvania the flexibility to implement a growth-based accountability model as part of determining AYP beginning in the 2009-2010 school year through the 2012-2013 school year based on assessments administered in the 2008-2009 school year through the 2011-2012 school year.

4. Waiver Applicant: Texas Education Agency

• Provision waived: Section 1111(b)(2) of the ESEA.

• Date waiver granted: January 8, 2009.

• Description of waiver: Provided Texas the flexibility to implement a growth-based accountability model as part of determining AYP beginning in the 2009-2010 school year through the 2012-2013 school year based on assessments administered in the 2008-2009 school year through the 2011-2012 school year.

III. “Differentiated Accountability Model Pilots”

1. Waiver Applicant: Arkansas Department of Education

• Provision waived: Section 1116 of the ESEA.

• Date waiver granted: January 8, 2009.

• Description of waiver: Provided Arkansas the flexibility to include its differentiated accountability model as a part of its system of school improvement interventions beginning in the 2009-2010 school year through the 2012-2013 school year.

2. Waiver Applicant: Louisiana Department of Education

• Provision waived: Section 1116 of the ESEA.

• Date waiver granted: January 8, 2009.

• Description of waiver: Provided Louisiana the flexibility to include its differentiated accountability model as a part of its system of school improvement interventions beginning in the 2009-2010 school year through the 2012-2013 school year.

3. Waiver Applicant: New York Department of Education

• Provision waived: Section 1116 of the ESEA.

• Date waiver granted: January 8, 2009.

• Description of waiver: Provided New York the flexibility to include its differentiated accountability model as a part of its system of school improvement interventions beginning in the 2009-2010 school year through the 2012-2013 school year.

IV. Substitute Assessments

1. Waiver Applicant: Maryland Department of Education

• Provisions waived: Section 1111(b)(3)(C)(i) of the ESEA and 34 CFR 200.3(a)(1)(i).

• Date waiver granted: January 15, 2009.

• Description of waiver: Permits Maryland to use Advanced Placement or the International Baccalaureate Biology assessments, from the 2008-2009 school year through the 2011-2012 school year, in place of the high school science end-of-course assessment even though the same assessment will not be used by all students and some students may take an assessment that does not cover the full breadth and depth of the State's academic content standards.

V. Delayed Release of Assessment Results and/or Public School Choice Notice

1. Waiver Applicant: California Department of Education

• Provision waived: Sections 1116(a)(2) and 1116(b)(1)(E)(i) of the ESEA.

• Date waiver granted: November 6, 2009.

• Description of waiver: Allows California to postpone the release of results of the State academic assessment administered in the 2008-2009 school year because new assessments had been implemented in that year, and to postpone notice of public school choice for the start of the 2009-2010 school year until assessment results are available.

2. Waiver Applicant: Kentucky Department of Education

• Provision waived: Section 1116(b)(1)(E)(i) of the ESEA.

• Date waiver granted: September 4, 2009.

• Description of waiver: Allows Kentucky to postpone notice of public school choice for the 2009-2010 school year until assessment results are available. Due to severe weather Kentucky experienced during the 2008-2009 school year, Kentucky delayed administering its statewide assessments.

3. Waiver Applicant: Puerto Rico Department of Education

• Provision waived: Section 1116(b)(1)(E)(i) of the ESEA.

• Date waiver granted: December 11, 2009.

• Description of waiver: Allows Puerto Rico to postpone the release of results of the State academic assessment administered in the 2008-2009 school year because new assessments had been implemented in that year, and to postpone notice of public school choice for the start of the 2009-2010 school year until assessment results are available.

4. Waiver Applicant: South Carolina Department of Education

• Provisions waived: Sections 1116(a)(2) and 1116(b)(1)(E)(i) of the ESEA.

• Date waiver granted: September 9, 2009.

• Description of waiver: Allows South Carolina to postpone the release of results of the State academic assessment administered in the 2008-2009 school year because new assessments had been implemented in that year, and to postpone notice of public school choice for the start of the 2009-2010 school year until assessment results are available.

VI. AYP Determinations

1. Waiver Applicant: Kentucky Department of Education

• Provisions waived: Sections 1111(b)(3)(A), 1111(b)(3)(C)(vii), and 1116(a)(1)(A) of the ESEA.

• Date waiver granted: September 4, 2009.

• Description of waiver: Allows Belfry Middle School to exclude assessments administered in the 2008-2009 school year when making AYP determinations because flooding that occurred during testing on May 8, 2009, damaged test materials.

2. Waiver Applicant: West Virginia Department of Education

• Provisions waived: Sections 1111(b)(3)(A), 1111(b)(3)(C)(vii), and 1116(a)(1)(A) of the ESEA.

• Date waiver granted: May 22, 2009.

• Description of waiver: Allows some schools in Mingo County to exclude assessments administered in the 2008-2009 school year when making AYP determinations because flooding occurred during the testing period, which made schools inoperable and unable to administer the State assessments.

VII. Title I Within-District Allocation Waiver

1. Waiver Applicant: McHenry Community High School District 156, IL

• Provisions waived: Sections 1113(a)(2) and 1113(c)(2)(A) of the ESEA.

• Date waiver granted: October 15, 2009.

• Description of waiver: Enables the District to allocate Title I funds to its second high school, which is just below the district-wide poverty rate and, therefore, not eligible for Title I funds, and would further enable the District to allocate an amount per poor child to both its high schools that is less than 125 percent of the per-pupil amount for the District as a whole.

2. Waiver Applicant: Milwaukee Public Schools, WI

• Provisions waived: Sections 1113(a)(2) and 1113(c)(2)(A) of the ESEA.

• Date waiver granted: November 6, 2009.

• Description of waiver: Enables Milwaukee Public Schools to allocate Title I funds to five schools that are below the district-wide poverty rate of 35 percent and, therefore, not eligible for Title I funds, and would further enable Milwaukee to allocate an amount per poor child to all its Title I schools that is less than 125 percent of the per-pupil amount for Milwaukee as a whole.

VIII. Allowing an LEA To Carry Over Title I Funds From One Fiscal Year to the Next

1. Waiver Applicant: Michigan Department of Education

• Provision waived: Section 1127(b) of the ESEA.

• Date waiver granted: June 17, 2009.

• Description of waiver: Allows Michigan to grant a carryover exemption more frequently than once every three years to Detroit Public Schools, specifically for FY 2007 Title I funds allocated to the LEA for school year 2007-2008 and for FY 2008 Title I funds allocated to the LEA for school year 2008-2009.

IX. Allowing LEAs Identified for Improvement To Exclude Their Title I Allocation When Calculating an LEA's Obligation To Spend 10 Percent of the Funds for Professional Development

1. On July 6, 2009, the Department granted the following LEAs in Massachusetts waivers of sections 1116(b)(3)(A)(iii) and 1116(c)(7)(A)(iii) of the ESEA. These sections preclude the 19 districts from using funds other than Title I, Part A funds for the 2008-2009 school year to meet the 10 percent professional development spending requirement. These waivers exempt an LEA identified for improvement, or an LEA for a school identified for improvement in the LEA from reserving 10 percent of its Title I allocation for professional development.

For schools identified for improvement:

• Adams Cheshire (for Plunkett Elementary School)

• Amherst-Pelham Regional (for Crocker Farm Elementary School in Amherst)

• Atlantis Charter School (single-school district)

• Attleborough (for Studley Elementary School)

• Greater New Bedford Voc-Tech (single-school district)

• Hawlemont (for Hawlemont Regional High School)

• Lowell (for Moody Elementary and McAuliffe Elementary Schools)

• Marblehead (for the Village School)

• Mohawk Trail Regional (for Buckland-Shelburne Elementary School)

• Monson (for Quarry Hill Community School)

• Norton (for Henry Yelle Elementary School)

• Orange (for Butterfield Elementary and Dexter Park Intermediate Schools)

• Randolph (for Lyons Elementary School)

• Triton Regional (for Salisbury Elementary School)

• Tyngsborough (for Tyngsborough Elementary School)

• Waltham (for Whittemore Elementary and Plympton Elementary Schools)

For LEAs identified for improvement:

• Agawam

• Ashburhan-Westminster Regional

• Plymouth

X. Transferability Waiver

1. Waiver Applicant: New York State Department of Education

• Provision waived: Section 6123(a) of the ESEA.

• Date waiver granted: November 23, 2009.

• Description of waiver: Permits the State to transfer certain Title IV, Part B funds for State-level activities to its Title I, Part A Administrative Reserve funds.

XI. Waivers of the Administrative Cost Limitation That Applies to Indian Education Funds

On June 17, 2009, the Department granted the following LEAs waivers of section 7115(d) of the ESEA, which establishes a five percent administrative cost limitation on funds awarded under the Indian Education formula grant program:

• Whiteriver Unified School District, AZ

• Ventura Unified School District, CA

• Muskogee Public Schools, OK

• Tulsa Public Schools, OK

XII. Notification of Public School Choice

1. Waiver Applicant: Alabama Department of Education

• Provision waived: 34 CFR 200.37(b)(4)(iv).

• Date waiver granted: August 14, 2009.

• Description of waiver: Permitted Alabama's LEAs to postpone notice of public school choice options beyond 14 days before the start of the school year to parents of eligible children attending schools that are newly identified for improvement for the 2009-2010 school year or that made AYP in the previous year but did not exit improvement status.

2. Waiver Applicant: Arizona Department of Education

• Provision waived: 34 CFR 200.37(b)(4)(iv).

• Date waiver granted: August 24, 2009.

• Description of waiver: Permitted Arizona's LEAs to postpone notice of public school choice options beyond 14 days before the start of the school year to parents of eligible children attending schools that are newly identified for improvement for the 2009-2010 school year or that made AYP in the previous year but did not exit improvement status.

3. Waiver Applicant: California Department of Education

• Provision waived: 34 CFR 200.37(b)(4)(iv).

• Date waiver granted: November 6, 2009.

• Description of waiver: Permitted California's LEAs to postpone notice of public school choice options beyond 14 days before the start of the school year to parents of eligible children attending schools that are newly identified for improvement for the 2009-2010 school year or that made AYP in the previous year but did not exit improvement status.

4. Waiver Applicant: Colorado Department of Education

• Provision waived: 34 CFR 200.37(b)(4)(iv).

• Date waiver granted: August 11, 2009.

• Description of waiver: Permitted Colorado's LEAs to postpone notice of public school choice options beyond 14 days before the start of the school year to parents of eligible children attending schools that are newly identified for improvement for the 2009-2010 school year or that made AYP in the previous year but did not exit improvement status.

5. Waiver Applicant: Idaho Department of Education

• Provision waived: 34 CFR 200.37(b)(4)(iv).

• Date waiver granted: October 15, 2009.

• Description of waiver: Permitted Idaho's LEAs to postpone notice of public school choice options beyond 14 days before the start of the school year to parents of eligible children attending schools that are newly identified for improvement for the 2009-2010 school year or that made AYP in the previous year but did not exit improvement status.

6. Waiver Applicant: Illinois State Board of Education

• Provision waived: 34 CFR 200.37(b)(4)(iv).

• Date waiver granted: September 16, 2009.

• Description of waiver: Permitted Illinois' LEAs to postpone notice of public school choice options beyond 14 days before the start of the school year to parents of eligible children attending schools that are newly identified for improvement for the 2009-2010 school year or that made AYP in the previous year but did not exit improvement status.

7. Waiver Applicant: Kentucky Department of Education

• Provision waived: 34 CFR 200.37(b)(4)(iv).

• Date waiver granted: September 4, 2009.

• Description of waiver: Permitted Kentucky's LEAs to postpone notice of public school choice options beyond 14 days before the start of the school year to parents of eligible children attending schools that are newly identified for improvement for the 2009-2010 school year or that made AYP in the previous year but did not exit improvement status.

8. Waiver Applicant: Louisiana Department of Education

• Provision waived: 34 CFR 200.37(b)(4)(iv).

• Date waiver granted: August 27, 2009.

• Description of waiver: Permitted Louisiana's LEAs to postpone notice of public school choice options beyond 14 days before the start of the school year to parents of eligible children attending schools that are newly identified for improvement for the 2009-2010 school year or that made AYP in the previous year but did not exit improvement status.

9. Waiver Applicant: Maine Department of Education

• Provision waived: 34 CFR 200.37(b)(4)(iv).

• Date waiver granted: September 23, 2009.

• Description of waiver: Permitted Maine's LEAs to postpone notice of public school choice options beyond 14 days before the start of the school year to parents of eligible children attending schools that are newly identified for improvement for the 2009-2010 school year or that made AYP in the previous year but did not exit improvement status.

10. Waiver Applicant: Massachusetts Department of Education

• Provision waived: 34 CFR 200.37(b)(4)(iv).

• Date waiver granted: August 24, 2009.

• Description of waiver: Permitted Massachusetts' LEAs to postpone notice of public school choice options beyond 14 days before the start of the school year to parents of eligible children attending schools that are newly identified for improvement for the 2009-2010 school year or that made AYP in the previous year but did not exit improvement status.

11. Waiver Applicant: Missouri Department of Education

• Provision waived: 34 CFR 200.37(b)(4)(iv).

• Date waiver granted: August 7, 2009.

• Description of waiver: Permitted Missouri's LEAs to postpone notice of public school choice options beyond 14 days before the start of the school year to parents of eligible children attending schools that are newly identified for improvement for the 2009-2010 school year or that made AYP in the previous year but did not exit improvement status.

12. Waiver Applicant: New Jersey Department of Education

• Provision waived: 34 CFR 200.37(b)(4)(iv).

• Date waiver granted: October 2, 2009.

• Description of waiver: Permitted New Jersey's LEAs to postpone notice of public school choice options beyond 14 days before the start of the school year to parents of eligible children attending schools that are newly identified for improvement for the 2009-2010 school year or that made AYP in the previous year but did not exit improvement status.

13. Waiver Applicant: New Mexico Department of Education

• Provision waived: 34 CFR 200.37(b)(4)(iv).

• Date waiver granted: August 31, 2009.

• Description of waiver: Permitted New Mexico's LEAs to postpone notice of public school choice options beyond 14 days before the start of the school year to parents of eligible children attending schools that are newly identified for improvement for the 2009-2010 school year or that made AYP in the previous year but did not exit improvement status.

14. Waiver Applicant: Oklahoma Department of Education

• Provision waived: 34 CFR 200.37(b)(4)(iv).

• Date waiver granted: October 15, 2009.

• Description of waiver: Permitted Oklahoma's LEAs to postpone notice of public school choice options beyond 14 days before the start of the school year to parents of eligible children attending schools that are newly identified for improvement for the 2009-2010 school year or that made AYP in the previous year but did not exit improvement status.

15. Waiver Applicant: Pennsylvania Department of Education

• Provision waived: 34 CFR 200.37(b)(4)(iv).

• Date waiver granted: August 27, 2009.

• Description of waiver: Permitted Pennsylvania's LEAs to postpone notice of public school choice options beyond 14 days before the start of the school year to parents of eligible children attending schools that are newly identified for improvement for the 2009-2010 school year or that made AYP in the previous year but did not exit improvement status.

16. Waiver Applicant: Puerto Rico Department of Education

• Provision waived: 34 CFR 200.37(b)(4)(iv).

• Date waiver granted: December 11, 2009.

• Description of waiver: Permitted Puerto Rico to postpone notice of public school choice options for some schools beyond 14 days before the start of the school year to parents of eligible children attending schools that are newly identified for improvement for the 2009-2010 school year or that made AYP in the previous year but did not exit improvement status.

17. Waiver Applicant: South Carolina Department of Education

• Provision waived: 34 CFR 200.37(b)(4)(iv).

• Date waiver granted: September 9, 2009.

• Description of waiver: Permitted South Carolina's LEAs to postpone notice of public school choice options beyond 14 days before the start of the school year to parents of eligible children attending schools that are newly identified for improvement for the 2009-2010 school year or that made AYP in the previous year but did not exit improvement status.

18. Waiver Applicant: Tennessee Department of Education

• Provision waived: 34 CFR 200.37(b)(4)(iv).

• Date waiver granted: August 27, 2009.

• Description of waiver: Permitted Tennessee's LEAs to postpone notice of public school choice options beyond 14 days before the start of the school year to parents of eligible children attending schools that are newly identified for improvement for the 2009-2010 school year or that made AYP in the previous year but did not exit improvement status.

19. Waiver Applicant: Utah State Office of Education

• Provision waived: 34 CFR 200.37(b)(4)(iv).

• Date waiver granted: October 15, 2009.

• Description of waiver: Permitted Utah's LEAs to postpone notice of public school choice options beyond 14 days before the start of the school year to parents of eligible children attending schools that are newly identified for improvement for the 2009-2010 school year or that made AYP in the previous year but did not exit improvement status.

20. Waiver Applicant: Virginia Department of Education

• Provision waived: 34 CFR 200.37(b)(4)(iv).

• Date waiver granted: September 4, 2009.

• Description of waiver: Permitted Virginia's LEAs to postpone notice of public school choice options beyond 14 days before the start of the school year to parents of eligible children attending schools that are newly identified for improvement for the 2009-2010 school year or that made AYP in the previous year but did not exit improvement status.

21. Waiver Applicant: Washington Department of Education

• Provision waived: 34 CFR 200.37(b)(4)(iv).

• Date waiver granted: August 13, 2009.

• Description of waiver: Permitted Washington's LEAs to postpone notice of public school choice options beyond 14 days before the start of the school year to parents of eligible children attending schools that are newly identified for improvement for the 2009-2010 school year or that made AYP in the previous year but did not exit improvement status.

22. Waiver Applicant: West Virginia Department of Education

• Provision waived: 34 CFR 200.37(b)(4)(iv).

• Date waiver granted: September 23, 2009.

• Description of waiver: Permitted West Virginia's LEAs to postpone notice of public school choice options beyond 14 days before the start of the school year to parents of eligible children attending schools that are newly identified for improvement for the 2009-2010 school year or that made AYP in the previous year but did not exit improvement status.

23. Waiver Applicant: Wyoming Department of Education

• Provision waived: 34 CFR 200.37(b)(4)(iv).

• Date waiver granted: September 16, 2009.

• Description of waiver: Permitted Wyoming's LEAs to postpone notice of public school choice options beyond 14 days before the start of the school year to parents of eligible children attending schools that are newly identified for improvement for the 2009-2010 school year or that made AYP in the previous year but did not exit improvement status.

XIII. Allowing SEAs To Approve Schools or LEAs in Need of Improvement To Become SES Providers

1. Waiver Applicant: Alaska Department of Education

• Provision waived: 34 CFR 200.47(b)(1)(iv)(A) and (B).

• Date waiver granted: August 13, 2009.

• Description of waiver: Permitted Alaska to approve a school or LEA identified for improvement, corrective action, or restructuring to serve as a provider of SES during the 2009-2010 school year.

2. Waiver Applicant: Arizona Department of Education

• Provision waived: 34 CFR 200.47(b)(1)(iv)(A) and (B).

• Date waiver granted: September 16, 2009.

• Description of waiver: Permitted Arizona to approve a school or LEA identified for improvement, corrective action, or restructuring to serve as a provider of SES during the 2009-2010 school year.

3. Waiver Applicant: California Department of Education

• Provision waived: 34 CFR 200.47(b)(1)(iv)(A) and (B).

• Date waiver granted: October 23, 2009.

• Description of waiver: Permitted California to approve a school or LEA identified for improvement, corrective action, or restructuring to serve as a provider of SES during the 2009-2010 school year.

4. Waiver Applicant: Colorado Department of Education

• Provision waived: 34 CFR 200.47(b)(1)(iv)(A) and (B).

• Date waiver granted: August 11, 2009.

• Description of waiver: Permitted Colorado to approve a school or LEA identified for improvement, corrective action, or restructuring to serve as a provider of SES during the 2009-2010 school year.

5. Waiver Applicant: Connecticut Department of Education

• Provision waived: 34 CFR 200.47(b)(1)(iv)(A) and (B).

• Date waiver granted: September 11, 2009.

• Description of waiver: Permitted Connecticut to approve a school or LEA identified for improvement, corrective action, or restructuring to serve as a provider of SES during the 2009-2010 school year.

6. Waiver Applicant: Florida Department of Education

• Provision waived: 34 CFR 200.47(b)(1)(iv)(A) and (B).

• Date waiver granted: September 23, 2009.

• Description of waiver: Permitted Florida to approve a school or LEA identified for improvement, corrective action, or restructuring to serve as a provider of SES during the 2009-2010 school year.

7. Waiver Applicant: Georgia Department of Education

• Provision waived: 34 CFR 200.47(b)(1)(iv)(A) and (B).

• Date waiver granted: August 13, 2009.

• Description of waiver: Permitted Georgia to approve a school or LEA identified for improvement, corrective action, or restructuring to serve as a provider of SES during the 2009-2010 school year.

8. Waiver Applicant: Idaho Department of Education

• Provision waived: 34 CFR 200.47(b)(1)(iv)(A) and (B).

• Date waiver granted: October 15, 2009.

• Description of waiver: Permitted Idaho to approve a school or LEA identified for improvement, corrective action, or restructuring to serve as a provider of SES during the 2009-2010 school year.

9. Waiver Applicant: Illinois State Board of Education

• Provision waived: 34 CFR 200.47(b)(1)(iv)(A) and (B).

• Date waiver granted: September 16, 2009.

• Description of waiver: Permitted Illinois to approve a school or LEA identified for improvement, corrective action, or restructuring to serve as a provider of SES during the 2009-2010 school year.

10. Waiver Applicant: Indiana Department of Education

• Provision waived: 34 CFR 200.47(b)(1)(iv)(A) and (B).

• Date waiver granted: September 23, 2009.

• Description of waiver: Permitted Indiana to approve a school or LEA identified for improvement, corrective action, or restructuring to serve as a provider of SES during the 2009-2010 school year.

11. Waiver Applicant: Kentucky Department of Education

• Provision waived: 34 CFR 200.47(b)(1)(iv)(A) and (B).

• Date waiver granted: September 4, 2009.

• Description of waiver: Permitted Kentucky to approve a school or LEA identified for improvement, corrective action, or restructuring to serve as a provider of SES during the 2009-2010 school year.

12. Waiver Applicant: Massachusetts Department of Education

• Provision waived: 34 CFR 200.47(b)(1)(iv)(A) and (B).

• Date waiver granted: August 24, 2009.

• Description of waiver: Permitted Massachusetts to approve a school or LEA identified for improvement, corrective action, or restructuring to serve as a provider of SES during the 2009-2010 school year.

13. Waiver Applicant: Michigan Department of Education

• Provision waived: 34 CFR 200.47(b)(1)(iv)(A) and (B).

• Date waiver granted: September 23, 2009.

• Description of waiver: Permitted Michigan to approve a school or LEA identified for improvement, corrective action, or restructuring to serve as a provider of SES during the 2009-2010 school year.

14. Waiver Applicant: Missouri Department of Education

• Provision waived: 34 CFR 200.47(b)(1)(iv)(A) and (B).

• Date waiver granted: August 7, 2009.

• Description of waiver: Permitted Missouri to approve a school or LEA identified for improvement to serve as a provider of SES during the 2009-2010 school year.

15. Waiver Applicant: North Carolina Department of Public Instruction

• Provision waived: 34 CFR 200.47(b)(1)(iv)(A) and (B).

• Date waiver granted: September 4, 2009.

• Description of waiver: Permitted North Carolina to approve a school or LEA identified for improvement, corrective action, or restructuring to serve as a provider of SES during the 2009-2010 school year.

16. Waiver Applicant: Nebraska Department of Education

• Provision waived: 34 CFR 200.47(b)(1)(iv)(A) and (B).

• Date waiver granted: August 26, 2009.

• Description of waiver: Permitted Nebraska to approve a school or LEA identified for improvement, corrective action, or restructuring to serve as a provider of SES during the 2009-2010 school year.

17. Waiver Applicant: New Mexico Department of Education

• Provision waived: 34 CFR 200.47(b)(1)(iv)(A) and (B).

• Date waiver granted: August 31, 2009.

• Description of waiver: Permitted New Mexico to approve a school or LEA identified for improvement, corrective action, or restructuring to serve as a provider of SES during the 2009-2010 school year.

18. Waiver Applicant: Ohio Department of Education

• Provision waived: 34 CFR 200.47(b)(1)(iv)(A) and (B).

• Date waiver granted: August 14, 2009.

• Description of waiver: Permitted Ohio to approve a school or LEA identified for improvement, corrective action, or restructuring to serve as a provider of SES during the 2009-2010 school year.

19. Waiver Applicant: Oklahoma Department of Education

• Provision waived: 34 CFR 200.47(b)(1)(iv)(A) and (B).

• Date waiver granted: October 15, 2009.

• Description of waiver: Permitted Oklahoma to approve a school or LEA identified for improvement, corrective action, or restructuring to serve as a provider of SES during the 2009-2010 school year.

20. Waiver Applicant: Oregon Department of Education

• Provision waived: 34 CFR 200.47(b)(1)(iv)(A) and (B).

• Date waiver granted: October 23, 2009.

• Description of waiver: Permitted Oregon to approve a school or LEA identified for improvement, corrective action, or restructuring to serve as a provider of SES during the 2009-2010 school year.

21. Waiver Applicant: Pennsylvania Department of Education

• Provision waived: 34 CFR 200.47(b)(1)(iv)(A) and (B).

• Date waiver granted: August 27, 2009.

• Description of waiver: Permitted Pennsylvania to approve a school or LEA identified for improvement, corrective action, or restructuring to serve as a provider of SES during the 2009-2010 school year.

22. Waiver Applicant: Rhode Island Department of Education

• Provision waived: 34 CFR 200.47(b)(1)(iv)(A) and (B).

• Date waiver granted: August 24, 2009.

• Description of waiver: Permitted Rhode Island to approve a school or LEA identified for improvement, corrective action, or restructuring to serve as a provider of SES during the 2009-2010 school year.

23. Waiver Applicant: South Carolina Department of Education

• Provision waived: 34 CFR 200.47(b)(1)(iv)(A) and (B).

• Date waiver granted: September 9, 2009.

• Description of waiver: Permitted South Carolina to approve a school or LEA identified for improvement, corrective action, or restructuring to serve as a provider of SES during the 2009-2010 school year.

24. Waiver Applicant: South Dakota Department of Education

• Provision waived: 34 CFR 200.47(b)(1)(iv)(A) and (B).

• Date waiver granted: August 14, 2009.

• Description of waiver: Permitted South Dakota to approve a school or LEA identified for improvement, corrective action, or restructuring to serve as a provider of SES during the 2009-2010 school year.

25. Waiver Applicant: Tennessee Department of Education

• Provision waived: 34 CFR 200.47(b)(1)(iv)(A) and (B).

• Date waiver granted: August 27, 2009.

• Description of waiver: Permitted Tennessee to approve a school or LEA identified for improvement, corrective action, or restructuring to serve as a provider of SES during the 2009-2010 school year.

26. Waiver Applicant: Washington Department of Education

• Provision waived: 34 CFR 200.47(b)(1)(iv)(A) and (B).

• Date waiver granted: August 13, 2009.

• Description of waiver: Permitted Washington to approve a school or LEA identified for improvement, corrective action, or restructuring to serve as a provider of SES during the 2009-2010 school year.

27. Waiver Applicant: Wisconsin Department of Public Instruction

• Provision waived: 34 CFR 200.47(b)(1)(iv)(A) and (B).

• Date waiver granted: August 13, 2009.

• Description of waiver: Permitted Wisconsin to approve a school or LEA identified for improvement, corrective action, or restructuring to serve as a provider of SES during the 2009-2010 school year.

28. Waiver Applicant: Wyoming Department of Education

• Provision waived: 34 CFR 200.47(b)(1)(iv)(A) and (B).

• Date waiver granted: September 16, 2009.

• Description of waiver: Permitted Wyoming to approve a school or LEA identified for improvement, corrective action, or restructuring to serve as a provider of SES during the 2009-2010 school year.

XIV. Allowing LEAs to Provide SES, in Addition to Public School Choice, to Eligible Students in Title I Schools in the First Year of School Improvement and Counting the Costs of Both Toward Meeting the LEA's “20 Percent Obligation”

New Applicants

1. Waiver Applicant: Arizona Department of Education

• Provisions waived: Section 1116(b)(10) of the ESEA and 34 CFR 200.48.

• Date waiver granted: September 16, 2009.

• Description of waiver: For the 2009-2010 school year, permitted LEAs in Arizona to offer SES, in addition to public school choice, to eligible students in Title I schools in the first year of school improvement and to count the costs of both toward meeting the LEA's “20 percent obligation.”

2. Waiver Applicant: California Department of Education

• Provisions waived: Section 1116(b)(10) of the ESEA and 34 CFR 200.48.

• Date waiver granted: December 11, 2009.

• Description of waiver: For the 2009-2010 school year, permitted LEAs in California to offer SES, in addition to public school choice, to eligible students in Title I schools in the first year of school improvement and to count the costs of both toward meeting the LEA's “20 percent obligation.”

3. Waiver Applicant: Connecticut Department of Education

• Provisions waived: Section 1116(b)(10) of the ESEA and 34 CFR 200.48.

• Date waiver granted: September 11, 2009.

• Description of waiver: For the 2009-2010 school year, permitted LEAs in Connecticut to offer SES, in addition to public school choice, to eligible students in Title I schools in the first year of school improvement and to count the costs of both toward meeting the LEA's “20 percent obligation.”

4. Waiver Applicant: DC Office of the State Superintendent of Education

• Provisions waived: Section 1116(b)(10) of the ESEA and 34 CFR 200.48.

• Date waiver granted: October 15, 2009.

• Description of waiver: For the 2009-2010 school year, permitted the District of Columbia LEAs to offer SES, in addition to public school choice, to eligible students in Title I schools in the first year of school improvement and to count the costs of both toward meeting the LEA's “20 percent obligation.”

5. Waiver Applicant: Idaho Department of Education

• Provisions waived: Section 1116(b)(10) of the ESEA and 34 CFR 200.48.

• Date waiver granted: October 15, 2009.

• Description of waiver: For the 2009-2010 school year, permitted LEAs in Idaho to offer SES, in addition to public school choice, to eligible students in Title I schools in the first year of school improvement and to count the costs of both toward meeting the LEA's “20 percent obligation.”

6. Waiver Applicant: Iowa Department of Education

• Provisions waived: Section 1116(b)(10) of the ESEA and 34 CFR 200.48.

• Date waiver granted: August 31, 2009.

• Description of waiver: For the 2009-2010 school year, permitted LEAs in Iowa to offer SES, in addition to public school choice, to eligible students in Title I schools in the first year of school improvement and to count the costs of both toward meeting the LEA's “20 percent obligation.”

7. Waiver Applicant: Kentucky Department of Education

• Provisions waived: Section 1116(b)(10) of the ESEA and 34 CFR 200.48.

• Date waiver granted: September 4, 2009.

• Description of waiver: For the 2009-2010 school year, permitted LEAs in Kentucky to offer SES, in addition to public school choice, to eligible students in Title I schools in the first year of school improvement and to count the costs of both toward meeting the LEA's “20 percent obligation.”

8. Waiver Applicant: Maryland Department of Education

• Provisions waived: Section 1116(b)(10) of the ESEA and 34 CFR 200.48.

• Date waiver granted: November 2, 2009.

• Description of waiver: For the 2009-2010 school year, permitted LEAs in Maryland to offer SES, in addition to public school choice, to eligible students in Title I schools in the first year of school improvement and to count the costs of both toward meeting the LEA's “20 percent obligation.”

9. Waiver Applicant: Massachusetts Department of Education

• Provisions waived: Section 1116(b)(10) of the ESEA and 34 CFR 200.48.

• Date waiver granted: August 24, 2009.

• Description of waiver: For the 2009-2010 school year, permitted LEAs in Massachusetts to offer SES, in addition to public school choice, to eligible students in Title I schools in the first year of school improvement and to count the costs of both toward meeting the LEA's “20 percent obligation.”

10. Waiver Applicant: Michigan Department of Education

• Provisions waived: Section 1116(b)(10) of the ESEA and 34 CFR 200.48.

• Date waiver granted: September 23, 2009.

• Description of waiver: For the 2009-2010 school year, permitted LEAs in Michigan to offer SES, in addition to public school choice, to eligible students in Title I schools in the first year of school improvement and to count the costs of both toward meeting the LEA's “20 percent obligation.”

11. Waiver Applicant: Missouri Department of Education

• Provisions waived: Section 1116(b)(10) of the ESEA and 34 CFR 200.48.

• Date waiver granted: August 7, 2009.

• Description of waiver: For the 2009-2010 school year, permitted LEAs in Missouri to offer SES, in addition to public school choice, to eligible students in Title I schools in the first year of school improvement and to count the costs of both toward meeting the LEA's “20 percent obligation.”

12. Waiver Applicant: Nebraska Department of Education

• Provisions waived: Section 1116(b)(10) of the ESEA and 34 CFR 200.48.

• Date waiver granted: August 26, 2009.

• Description of waiver: For the 2009-2010 school year, permitted LEAs in Nebraska to offer SES, in addition to public school choice, to eligible students in Title I schools in the first year of school improvement and to count the costs of both toward meeting the LEA's “20 percent obligation.”

13. Waiver Applicant: Nevada Department of Education

• Provisions waived: Section 1116(b)(10) of the ESEA and 34 CFR 200.48.

• Date waiver granted: October 8, 2009.

• Description of waiver: For the 2009-2010 school year, permitted LEAs in Nevada to offer SES, in addition to public school choice, to eligible students in Title I schools in the first year of school improvement and to count the costs of both toward meeting the LEA's “20 percent obligation.”

14. Waiver Applicant: New Hampshire Department of Education

• Provisions waived: Section 1116(b)(10) of the ESEA and 34 CFR 200.48.

• Date waiver granted: September 23, 2009.

• Description of waiver: For the 2009-2010 school year, permitted LEAs in New Hampshire to offer SES, in addition to public school choice, to eligible students in Title I schools in the first year of school improvement and to count the costs of both toward meeting the LEA's “20 percent obligation.”

15. Waiver Applicant: New Jersey Department of Education

• Provisions waived: Section 1116(b)(10) of the ESEA and 34 CFR 200.48.

• Date waiver granted: October 2, 2009.

• Description of waiver: For the 2009-2010 school year, permitted LEAs in New Jersey to offer SES, in addition to public school choice, to eligible students in Title I schools in the first year of school improvement and to count the costs of both toward meeting the LEA's “20 percent obligation.”

16. Waiver Applicant: New Mexico Department of Education

• Provisions waived: Section 1116(b)(10) of the ESEA and 34 CFR 200.48.

• Date waiver granted: August 31, 2009.

• Description of waiver: For the 2009-2010 school year, permitted LEAs in New Mexico to offer SES, in addition to public school choice, to eligible students in Title I schools in the first year of school improvement and to count the costs of both toward meeting the LEA's “20 percent obligation.”

17. Waiver Applicant: Ohio Department of Education

• Provisions waived: Section 1116(b)(10) of the ESEA and 34 CFR 200.48.

• Date waiver granted: August 14, 2009.

• Description of waiver: For the 2009-2010 school year, permitted LEAs in Ohio to offer SES, in addition to public school choice, to eligible students in Title I schools in the first year of school improvement and to count the costs of both toward meeting the LEA's “20 percent obligation.”

18. Waiver Applicant: Oklahoma Department of Education

• Provisions waived: Section 1116(b)(10) of the ESEA and 34 CFR 200.48.

• Date waiver granted: October 15, 2009.

• Description of waiver: For the 2009-2010 school year, permitted LEAs in Oklahoma to offer SES, in addition to public school choice, to eligible students in Title I schools in the first year of school improvement and to count the costs of both toward meeting the LEA's “20 percent obligation.”

19. Waiver Applicant: Oregon Department of Education

• Provisions waived: Section 1116(b)(10) of the ESEA and 34 CFR 200.48.

• Date waiver granted: October 23, 2009.

• Description of waiver: For the 2009-2010 school year, permitted LEAs in Oregon to offer SES, in addition to public school choice, to eligible students in Title I schools in the first year of school improvement and to count the costs of both toward meeting the LEA's “20 percent obligation.”

20. Waiver Applicant: Rhode Island Department of Education

• Provisions waived: Section 1116(b)(10) of the ESEA and 34 CFR 200.48.

• Date waiver granted: August 24, 2009.

• Description of waiver: For the 2009-2010 school year, permitted LEAs in Rhode Island to offer SES, in addition to public school choice, to eligible students in Title I schools in the first year of school improvement and to count the costs of both toward meeting the LEA's “20 percent obligation.”

21. Waiver Applicant: South Carolina Department of Education

• Provisions waived: Section 1116(b)(10) of the ESEA and 34 CFR 200.48.

• Date waiver granted: September 9, 2009.

• Description of waiver: For the 2009-2010 school year, permitted LEAs in South Carolina to offer SES, in addition to public school choice, to eligible students in Title I schools in the first year of school improvement and to count the costs of both toward meeting the LEA's “20 percent obligation.”

22. Waiver Applicant: Washington Department of Education

• Provisions waived: Section 1116(b)(10) of the ESEA and 34 CFR 200.48.

• Date waiver granted: August 31, 2009.

• Description of waiver: For the 2009-2010 school year, permitted LEAs in Washington to offer SES, in addition to public school choice, to eligible students in Title I schools in the first year of school improvement and to count the costs of both toward meeting the LEA's “20 percent obligation.”

23. Waiver Applicant: West Virginia Department of Education

• Provisions waived: Section 1116(b)(10) of the ESEA and 34 CFR 200.48.

• Date waiver granted: August 24, 2009.

• Description of waiver: For the 2009-2010 school year, permitted LEAs in West Virginia to offer SES, in addition to public school choice, to eligible students in Title I schools in the first year of school improvement and to count the costs of both toward meeting the LEA's “20 percent obligation.”

24. Waiver Applicant: Wisconsin Department of Public Instruction

• Provisions waived: Section 1116(b)(10) of the ESEA and 34 CFR 200.48.

• Date waiver granted: August 13, 2009.

• Description of waiver: For the 2009-2010 school year, permitted LEAs in Wisconsin to offer SES, in addition to public school choice, to eligible students in Title I schools in the first year of school improvement and to count the costs of both toward meeting the LEA's “20 percent obligation.”

25. Waiver Applicant: Wyoming Department of Education

• Provisions waived: Section 1116(b)(10) of the ESEA and 34 CFR 200.48.

• Date waiver granted: September 16, 2009.

• Description of waiver: For the 2009-2010 school year, permitted LEAs in Wyoming to offer SES, in addition to public school choice, to eligible students in Title I schools in the first year of school improvement and to count the costs of both toward meeting the LEA's “20 percent obligation.”

Continuation Applicants

1. Waiver Applicant: Alabama Department of Education

• Provisions waived: Section 1116(b)(10) of the ESEA and 34 CFR 200.48.

• Date waiver granted: September 16, 2009.

• Description of waiver: For the 2009-2010 school year, permitted LEAS in Alabama to offer SES, in addition to public school choice, to eligible students in Title I schools in the first year of school improvement and to count the costs of both toward meeting the LEA's “20 percent obligation.”

2. Waiver Applicant: Alaska Department of Education

• Provisions waived: Section 1116(b)(10) of the ESEA and 34 CFR 200.48.

• Date waiver granted: September 16, 2009.

• Description of waiver: For the 2009-2010 school year, permitted LEAs in Alaska to offer SES, in addition to public school choice, to eligible students in Title I schools in the first year of school improvement and to count the costs of both toward meeting the LEA's “20 percent obligation.”

3. Waiver Applicant: North Carolina Department of Public Instruction

• Provisions waived: Section 1116(b)(10) of the ESEA and 34 CFR 200.48.

• Date waiver granted: September 16, 2009.

• Description of waiver: For the 2009-2010 school year, permitted LEAs in North Carolina to offer SES, in addition to public school choice, to eligible students in Title I schools in the first year of school improvement and to count the costs of both toward meeting the LEA's “20 percent obligation.”

4. Waiver Applicant: Tennessee Department of Education

• Provisions waived: Section 1116(b)(10) of the ESEA and 34 CFR 200.48.

• Date waiver granted: September 16, 2009.

• Description of waiver: For the 2009-2010 school year, permitted LEAs in Tennessee to offer SES, in addition to public school choice, to eligible students in Title I schools in the first year of school improvement and to count the costs of both toward meeting the LEA's “20 percent obligation.”

5. Waiver Applicant: Utah Department of Public Instruction

• Provisions waived: Section 1116(b)(10) of the ESEA and 34 CFR 200.48.

• Date waiver granted: September 16, 2009.

• Description of waiver: For the 2009-2010 school year, permitted LEAs in Utah to offer SES, in addition to public school choice, to eligible students in Title I schools in the first year of school improvement and to count the costs of both toward meeting the LEA's “20 percent obligation.”

6. Waiver Applicant: Virginia Department of Education

• Provisions waived: Section 1116(b)(10) of the ESEA and 34 CFR 200.48.

• Date waiver granted: September 16, 2009.

• Description of waiver: For the 2009-2010 school year, permitted LEAs in Virginia to offer SES, in addition to public school choice, to eligible students in Title I schools in the first year of school improvement and to count the costs of both toward meeting the LEA's “20 percent obligation.”

XV. Waivers Related to Title I, Part A Funding Provided Under ARRA

A. Allowing an LEA To Exclude Its Title I, Part A Allocation Received Under ARRA When Calculating Its Obligation to Spend the Equivalent of 20 Percent of Title I, Part A Funds for Public School Choice-Related Transportation and SES

1. Waiver Applicant: Alabama Department of Education

• Provisions waived: Section 1116(b)(10) of the ESEA and 34 CFR 200.48(a)(2).

• Date waiver granted: August 14, 2009.

• Description of waiver: Allows LEAs in Alabama to exclude all or part of the Title I, Part A ARRA funds when calculating their obligation to spend at least the equivalent of 20 percent of their fiscal year 2009 Title I, Part A funds for public school choice-related transportation and SES.

2. Waiver Applicant: Alaska Department of Education

• Provisions waived: Section 1116(b)(10) of the ESEA and 34 CFR 200.48(a)(2).

• Date waiver granted: August 13, 2009.

• Description of waiver: Allows LEAs in Alaska to exclude all or part of the Title I, Part A ARRA funds when calculating their obligation to spend at least the equivalent of 20 percent of their fiscal year 2009 Title I, Part A funds for public school choice-related transportation and SES.

3. Waiver Applicant: Arizona Department of Education

• Provisions waived: Section 1116(b)(10) of the ESEA and 34 CFR 200.48(a)(2).

• Date waiver granted: September 16, 2009.

• Description of waiver: Allows LEAs in Arizona to exclude all or part of the Title I, Part A ARRA funds when calculating their obligation to spend at least the equivalent of 20 percent of their fiscal year 2009 Title I, Part A funds for public school choice-related transportation and SES.

4. Waiver Applicant: Arkansas Department of Education

• Provisions waived: Section 1116(b)(10) of the ESEA and 34 CFR 200.48(a)(2).

• Date waiver granted: October 23, 2009.

• Description of waiver: Allows LEAs in Arkansas to exclude all or part of the Title I, Part A ARRA funds when calculating their obligation to spend at least the equivalent of 20 percent of their fiscal year 2009 Title I, Part A funds for public school choice-related transportation and SES.

5. Waiver Applicant: California Department of Education

• Provisions waived: Section 1116(b)(10) of the ESEA and 34 CFR 200.48(a)(2).

• Date waiver granted: December 11, 2009.

• Description of waiver: Allows LEAs in California to exclude all or part of the Title I, Part A ARRA funds when calculating their obligation to spend at least the equivalent of 20 percent of their fiscal year 2009 Title I, Part A funds for public school choice-related transportation and SES.

6. Waiver Applicant: Colorado Department of Education

• Provisions waived: Section 1116(b)(10) of the ESEA and 34 CFR 200.48(a)(2).

• Date waiver granted: August 13, 2009.

• Description of waiver: Allows LEAs in Colorado to exclude all or part of the Title I, Part A ARRA funds when calculating their obligation to spend at least the equivalent of 20 percent of their fiscal year 2009 Title I, Part A funds for public school choice-related transportation and SES.

7. Waiver Applicant: Connecticut Department of Education

• Provisions waived: Section 1116(b)(10) of the ESEA and 34 CFR 200.48(a)(2).

• Date waiver granted: September 11, 2009.

• Description of waiver: Allows LEAs in Connecticut to exclude all or part of the Title I, Part A ARRA funds when calculating their obligation to spend at least the equivalent of 20 percent of their fiscal year 2009 Title I, Part A funds for public school choice-related transportation and SES.

8. Waiver Applicant: DC Office of the State Superintendent of Education

• Provisions waived: Section 1116(b)(10) of the ESEA and 34 CFR 200.48(a)(2).

• Date waiver granted: October 15, 2009.

• Description of waiver: Allows the District of Columbia LEA to exclude all or part of the Title I, Part A ARRA funds when calculating their obligation to spend at least the equivalent of 20 percent of its fiscal year 2009 Title I, Part A funds for public school choice-related transportation and SES.

9. Waiver Applicant: Florida Department of Education

• Provisions waived: Section 1116(b)(10) of the ESEA and 34 CFR 200.48(a)(2).

• Date waiver granted: September 23, 2009.

• Description of waiver: Allows LEAs in Florida to exclude all or part of the Title I, Part A ARRA funds when calculating their obligation to spend at least the equivalent of 20 percent of their fiscal year 2009 Title I, Part A funds for public school choice-related transportation and SES.

10. Waiver Applicant: Georgia Department of Education

• Provisions waived: Section 1116(b)(10) of the ESEA and 34 CFR 200.48(a)(2).

• Date waiver granted: August 13, 2009.

• Description of waiver: Allows LEAs in Georgia to exclude all or part of the Title I, Part A ARRA funds when calculating their obligation to spend at least the equivalent of 20 percent of their fiscal year 2009 Title I, Part A funds for public school choice-related transportation and SES.

11. Waiver Applicant: Hawaii Department of Education

• Provisions waived: Section 1116(b)(10) of the ESEA and 34 CFR 200.48(a)(2).

• Date waiver granted: November 2, 2009.

• Description of waiver: Allows the LEA in Hawaii to exclude all or part of the Title I, Part A ARRA funds when calculating their obligation to spend at least the equivalent of 20 percent of its fiscal year 2009 Title I, Part A funds for public school choice-related transportation and SES.

12. Waiver Applicant: Idaho Department of Education

• Provisions waived: Section 1116(b)(10) of the ESEA and 34 CFR 200.48(a)(2).

• Date waiver granted: October 15, 2009.

• Description of waiver: Allows LEAs in Idaho to exclude all or part of the Title I, Part A ARRA funds when calculating their obligation to spend at least the equivalent of 20 percent of their fiscal year 2009 Title I, Part A funds for public school choice-related transportation and SES.

13. Waiver Applicant: Illinois State Board of Education

• Provisions waived: Section 1116(b)(10) of the ESEA and 34 CFR 200.48(a)(2).

• Date waiver granted: September 16, 2009.

• Description of waiver: Allows LEAs in Illinois to exclude all or part of the Title I, Part A ARRA funds when calculating their obligation to spend at least the equivalent of 20 percent of their fiscal year 2009 Title I, Part A funds for public school choice-related transportation and SES.

14. Waiver Applicant: Indiana Department of Education

• Provisions waived: Section 1116(b)(10) of the ESEA and 34 CFR 200.48(a)(2).

• Date waiver granted: September 23, 2009.

• Description of waiver: Allows LEAs in Indiana to exclude all or part of the Title I, Part A ARRA funds when calculating their obligation to spend at least the equivalent of 20 percent of their fiscal year 2009 Title I, Part A funds for public school choice-related transportation and SES.

15. Waiver Applicant: Iowa Department of Education

• Provisions waived: Section 1116(b)(10) of the ESEA and 34 CFR 200.48(a)(2).

• Date waiver granted: August 31, 2009.

• Description of waiver: Allows LEAs in Iowa to exclude all or part of the Title I, Part A ARRA funds when calculating their obligation to spend at least the equivalent of 20 percent of their fiscal year 2009 Title I, Part A funds for public school choice-related transportation and SES.

16. Waiver Applicant: Kentucky Department of Education

• Provisions waived: Section 1116(b)(10) of the ESEA and 34 CFR 200.48(a)(2).

• Date waiver granted: September 4, 2009.

• Description of waiver: Allows LEAs in Kentucky to exclude all or part of the Title I, Part A ARRA funds when calculating their obligation to spend at least the equivalent of 20 percent of their fiscal year 2009 Title I, Part A funds for public school choice-related transportation and SES.

17. Waiver Applicant: Louisiana Department of Education

• Provisions waived: Section 1116(b)(10) of the ESEA and 34 CFR 200.48(a)(2).

• Date waiver granted: August 27, 2009.

• Description of waiver: Allows LEAs in Louisiana to exclude all or part of the Title I, Part A ARRA funds when calculating their obligation to spend at least the equivalent of 20 percent of their fiscal year 2009 Title I, Part A funds for public school choice-related transportation and SES.

18. Waiver Applicant: Maine Department of Education

• Provisions waived: Section 1116(b)(10) of the ESEA and 34 CFR 200.48(a)(2).

• Date waiver granted: September 23, 2009.

• Description of waiver: Allows LEAs in Maine to exclude all or part of the Title I, Part A ARRA funds when calculating their obligation to spend at least the equivalent of 20 percent of their fiscal year 2009 Title I, Part A funds for public school choice-related transportation and SES.

19. Waiver Applicant: Maryland Department of Education

• Provisions waived: Section 1116(b)(10) of the ESEA and 34 CFR 200.48(a)(2).

• Date waiver granted: November 2, 2009.

• Description of waiver: Allows LEAs in Maryland to exclude all or part of the Title I, Part A ARRA funds when calculating their obligation to spend at least the equivalent of 20 percent of their fiscal year 2009 Title I, Part A funds for public school choice-related transportation and SES.

20. Waiver Applicant: Massachusetts Department of Education

• Provisions waived: Section 1116(b)(10) of the ESEA and 34 CFR 200.48(a)(2).

• Date waiver granted: August 24, 2009.

• Description of waiver: Allows LEAs in Massachusetts to exclude all or part of the Title I, Part A ARRA funds when calculating their obligation to spend at least the equivalent of 20 percent of their fiscal year 2009 Title I, Part A funds for public school choice-related transportation and SES.

21. Waiver Applicant: Michigan Department of Education

• Provisions waived: Section 1116(b)(10) of the ESEA and 34 CFR 200.48(a)(2).

• Date waiver granted: September 23, 2009.

• Description of waiver: Allows LEAs in Michigan to exclude all or part of the Title I, Part A ARRA funds when calculating their obligation to spend at least the equivalent of 20 percent of their fiscal year 2009 Title I, Part A funds for public school choice-related transportation and SES.

22. Waiver Applicant: Missouri Department of Education

• Provisions waived: Section 1116(b)(10) of the ESEA and 34 CFR 200.48(a)(2).

• Date waiver granted: August 7, 2009.

• Description of waiver: Allows LEAs in Missouri to exclude all or part of the Title I, Part A ARRA funds when calculating their obligation to spend at least the equivalent of 20 percent of their fiscal year 2009 Title I, Part A funds for public school choice-related transportation and SES.

23. Waiver Applicant: Nebraska Department of Education

• Provisions waived: Section 1116(b)(10) of the ESEA and 34 CFR 200.48(a)(2).

• Date waiver granted: August 26, 2009.

• Description of waiver: Allows LEAs in Nebraska to exclude all or part of the Title I, Part A ARRA funds when calculating their obligation to spend at least the equivalent of 20 percent of their fiscal year 2009 Title I, Part A funds for public school choice-related transportation and SES.

24. Waiver Applicant: Nevada Department of Education

• Provisions waived: Section 1116(b)(10) of the ESEA and 34 CFR 200.48(a)(2).

• Date waiver granted: October 8, 2009.

• Description of waiver: Allows LEAs in Nevada to exclude all or part of the Title I, Part A ARRA funds when calculating their obligation to spend at least the equivalent of 20 percent of their fiscal year 2009 Title I, Part A funds for public school choice-related transportation and SES.

25. Waiver Applicant: New Hampshire Department of Education

• Provisions waived: Section 1116(b)(10) of the ESEA and 34 CFR 200.48(a)(2).

• Date waiver granted: September 23, 2009.

• Description of waiver: Allows LEAs in New Hampshire to exclude all or part of the Title I, Part A ARRA funds when calculating their obligation to spend at least the equivalent of 20 percent of their fiscal year 2009 Title I, Part A funds for public school choice-related transportation and SES.

26. Waiver Applicant: New Jersey Department of Education

• Provisions waived: Section 1116(b)(10) of the ESEA and 34 CFR 200.48(a)(2).

• Date waiver granted: October 2, 2009.

• Description of waiver: Allows LEAs in New Jersey to exclude all or part of the Title I, Part A ARRA funds when calculating their obligation to spend at least the equivalent of 20 percent of their fiscal year 2009 Title I, Part A funds for public school choice-related transportation and SES.

27. Waiver Applicant: New Mexico Department of Education

• Provisions waived: Section 1116(b)(10) of the ESEA and 34 CFR 200.48(a)(2).

• Date waiver granted: August 31, 2009.

• Description of waiver: Allows LEAs in New Mexico to exclude all or part of the Title I, Part A ARRA funds when calculating their obligation to spend at least the equivalent of 20 percent of their fiscal year 2009 Title I, Part A funds for public school choice-related transportation and SES.

28. Waiver Applicant: North Carolina Department of Public Instruction

• Provisions waived: Section 1116(b)(10) of the ESEA and 34 CFR 200.48(a)(2).

• Date waiver granted: September 4, 2009.

• Description of waiver: Allows LEAs in North Carolina to exclude all or part of the Title I, Part A ARRA funds when calculating their obligation to spend at least the equivalent of 20 percent of their fiscal year 2009 Title I, Part A funds for public school choice-related transportation and SES.

29. Waiver Applicant: North Dakota Department of Public Instruction

• Provisions waived: Section 1116(b)(10) of the ESEA and 34 CFR 200.48(a)(2).

• Date waiver granted: October 2, 2009.

• Description of waiver: Allows LEAs in North Dakota to exclude all or part of the Title I, Part A ARRA funds when calculating their obligation to spend at least the equivalent of 20 percent of their fiscal year 2009 Title I, Part A funds for public school choice-related transportation and SES.

30. Waiver Applicant: Ohio Department of Education

• Provisions waived: Section 1116(b)(10) of the ESEA and 34 CFR 200.48(a)(2).

• Date waiver granted: August 14, 2009.

• Description of waiver: Allows LEAs in Ohio to exclude all or part of the Title I, Part A ARRA funds when calculating their obligation to spend at least the equivalent of 20 percent of their fiscal year 2009 Title I, Part A funds for public school choice-related transportation and SES.

31. Waiver Applicant: Oklahoma Department of Education

• Provisions waived: Section 1116(b)(10) of the ESEA and 34 CFR 200.48(a)(2).

• Date waiver granted: October 15, 2009.

• Description of waiver: Allows LEAs in Oklahoma to exclude all or part of the Title I, Part A ARRA funds when calculating their obligation to spend at least the equivalent of 20 percent of their fiscal year 2009 Title I, Part A funds for public school choice-related transportation and SES.

32. Waiver Applicant: Oregon Department of Education

• Provisions waived: Section 1116(b)(10) of the ESEA and 34 CFR 200.48(a)(2).

• Date waiver granted: October 23, 2009.

• Description of waiver: Allows LEAs in Oregon to exclude all or part of the Title I, Part A ARRA funds when calculating their obligation to spend at least the equivalent of 20 percent of their fiscal year 2009 Title I, Part A funds for public school choice-related transportation and SES.

33. Waiver Applicant: Pennsylvania Department of Education

• Provisions waived: Section 1116(b)(10) of the ESEA and 34 CFR 200.48(a)(2).

• Date waiver granted: August 27, 2009.

• Description of waiver: Allows LEAs in Pennsylvania to exclude all or part of the Title I, Part A ARRA funds when calculating their obligation to spend at least the equivalent of 20 percent of their fiscal year 2009 Title I, Part A funds for public school choice-related transportation and SES.

34. Waiver Applicant: Rhode Island Department of Education

• Provisions waived: Section 1116(b)(10) of the ESEA and 34 CFR 200.48(a)(2).

• Date waiver granted: August 24, 2009.

• Description of waiver: Allows LEAs in Rhode Island to exclude all or part of the Title I, Part A ARRA funds when calculating their obligation to spend at least the equivalent of 20 percent of their fiscal year 2009 Title I, Part A funds for public school choice-related transportation and SES.

35. Waiver Applicant: South Carolina Department of Education

• Provisions waived: Section 1116(b)(10) of the ESEA and 34 CFR 200.48(a)(2).

• Date waiver granted: September 9, 2009.

• Description of waiver: Allows LEAs in South Carolina to exclude all or part of the Title I, Part A ARRA funds when calculating their obligation to spend at least the equivalent of 20 percent of their fiscal year 2009 Title I, Part A funds for public school choice-related transportation and SES.

36. Waiver Applicant: South Dakota Department of Education

• Provisions waived: Section 1116(b)(10) of the ESEA and 34 CFR 200.48(a)(2).

• Date waiver granted: August 14, 2009.

• Description of waiver: Allows LEAs in South Dakota to exclude all or part of the Title I, Part A ARRA funds when calculating their obligation to spend at least the equivalent of 20 percent of their fiscal year 2009 Title I, Part A funds for public school choice-related transportation and SES.

37. Waiver Applicant: Tennessee Department of Education

• Provisions waived: Section 1116(b)(10) of the ESEA and 34 CFR 200.48(a)(2).

• Date waiver granted: August 27, 2009.

• Description of waiver: Allows LEAs in Tennessee to exclude all or part of the Title I, Part A ARRA funds when calculating their obligation to spend at least the equivalent of 20 percent of their fiscal year 2009 Title I, Part A funds for public school choice-related transportation and SES.

38. Waiver Applicant: Virginia Department of Education

• Provisions waived: Section 1116(b)(10) of the ESEA and 34 CFR 200.48(a)(2).

• Date waiver granted: October 8, 2009.

• Description of waiver: Allows LEAs in Virginia to exclude all or part of the Title I, Part A ARRA funds when calculating their obligation to spend at least the equivalent of 20 percent of their fiscal year 2009 Title I, Part A funds for public school choice-related transportation and SES.

39. Waiver Applicant: Washington Department of Education

• Provisions waived: Section 1116(b)(10) of the ESEA and 34 CFR 200.48(a)(2).

• Date waiver granted: August 13, 2009.

• Description of waiver: Allows LEAs in Washington to exclude all or part of the Title I, Part A ARRA funds when calculating their obligation to spend at least the equivalent of 20 percent of their fiscal year 2009 Title I, Part A funds for public school choice-related transportation and SES.

40. Waiver Applicant: West Virginia Department of Education

• Provisions waived: Section 1116(b)(10) of the ESEA and 34 CFR 200.48(a)(2).

• Date waiver granted: August 24, 2009.

• Description of waiver: Allows LEAs in West Virginia to exclude all or part of the Title I, Part A ARRA funds when calculating their obligation to spend at least the equivalent of 20 percent of their fiscal year 2009 Title I, Part A funds for public school choice-related transportation and SES.

41. Waiver Applicant: Wisconsin Department of Public Instruction

• Provisions waived: Section 1116(b)(10) of the ESEA and 34 CFR 200.48(a)(2).

• Date waiver granted: August 13, 2009.

• Description of waiver: Allows LEAs in Wisconsin to exclude all or part of the Title I, Part A ARRA funds when calculating their obligation to spend at least the equivalent of 20 percent of their fiscal year 2009 Title I, Part A funds for public school choice-related transportation and SES.

42. Waiver Applicant: Wyoming Department of Education

• Provisions waived: Section 1116(b)(10) of the ESEA and 34 CFR 200.48(a)(2).

• Date waiver granted: September 16, 2009.

• Description of waiver: Allows LEAs in Wyoming to exclude all or part of the Title I, Part A ARRA funds when calculating their obligation to spend at least the equivalent of 20 percent of their fiscal year 2009 Title I, Part A funds for public school choice-related transportation and SES.

B. Allowing an LEA and/or a School to Exclude its Title I, Part A Allocation Received Under ARRA When Calculating Its Obligation to Spend 10 Percent of Title I, Part A Funds for Professional Development

1. Waiver Applicant: Alabama Department of Education

• Provisions waived: Sections 1116(c)(7)(A)(iii) and 1116(b)(3)(A)(iii) of the ESEA, and 34 CFR 200.52(a)(3)(iii) and 34 CFR 200.41(c)(5).

• Date waiver granted: August 14, 2009.

• Description of waiver: Allows LEAs and schools in Alabama that are in improvement, corrective action, or restructuring status to exclude all or part of the Title I, Part A ARRA funds when calculating their obligation to spend at least 10 percent of fiscal year 2009 Title I, Part A funds for professional development.

2. Waiver Applicant: Alaska Department of Education

• Provisions waived: Sections 1116(c)(7)(A)(iii) and 1116(b)(3)(A)(iii) of the ESEA, and 34 CFR 200.52(a)(3)(iii) and 34 CFR 200.41(c)(5).

• Date waiver granted: August 13, 2009.

• Description of waiver: Allows LEAs and schools in Alaska that are in improvement, corrective action, or restructuring status to exclude all or part of the Title I, Part A ARRA funds when calculating their obligation to spend at least 10 percent of fiscal year 2009 Title I, Part A funds for professional development.

3. Waiver Applicant: Arizona Department of Education

• Provisions waived: Sections 1116(c)(7)(A)(iii) and 1116(b)(3)(A)(iii) of the ESEA, and 34 CFR 200.52(a)(3)(iii) and 34 CFR 200.41(c)(5).

• Date waiver granted: September 16, 2009.

• Description of waiver: Allows LEAs and schools in Arizona that are in improvement, corrective action, or restructuring status to exclude all or part of the Title I, Part A ARRA funds when calculating their obligation to spend at least 10 percent of fiscal year 2009 Title I, Part A funds for professional development.

4. Waiver Applicant: Arkansas Department of Education

• Provisions waived: Sections 1116(c)(7)(A)(iii) and 1116(b)(3)(A)(iii) of the ESEA, and 34 CFR 200.52(a)(3)(iii) and 34 CFR 200.41(c)(5).

• Date waiver granted: October 23, 2009.

• Description of waiver: Allows LEAs and schools in Arkansas that are in improvement, corrective action, or restructuring status to exclude all or part of the Title I, Part A ARRA funds when calculating their obligation to spend at least 10 percent of fiscal year 2009 Title I, Part A funds for professional development.

5. Waiver Applicant: California Department of Education

• Provisions waived: Sections 1116(c)(7)(A)(iii) and 1116(b)(3)(A)(iii) of the ESEA, and 34 CFR 200.52(a)(3)(iii) and 34 CFR 200.41(c)(5).

• Date waiver granted: December 11, 2009.

• Description of waiver: Allows LEAs and schools in California that are in improvement, corrective action, or restructuring status to exclude all or part of the Title I, Part A ARRA funds when calculating their obligation to spend at least 10 percent of fiscal year 2009 Title I, Part A funds for professional development.

6. Waiver Applicant: Colorado Department of Education

• Provisions waived: Sections 1116(c)(7)(A)(iii) and 1116(b)(3)(A)(iii) of the ESEA, and 34 CFR 200.52(a)(3)(iii) and 34 CFR 200.41(c)(5).

• Date waiver granted: August 11, 2009.

• Description of waiver: Allows LEAs and schools in Colorado that are in improvement, corrective action, or restructuring status to exclude all or part of the Title I, Part A ARRA funds when calculating their obligation to spend at least 10 percent of fiscal year 2009 Title I, Part A funds for professional development.

7. Waiver Applicant: Connecticut Department of Education

• Provisions waived: Sections 1116(c)(7)(A)(iii) and 1116(b)(3)(A)(iii) of the ESEA, and 34 CFR 200.52(a)(3)(iii) and 34 CFR 200.41(c)(5).

• Date waiver granted: September 11, 2009.

• Description of waiver: Allows LEAs and schools in Connecticut that are in improvement, corrective action, or restructuring status to exclude all or part of the Title I, Part A ARRA funds when calculating their obligation to spend at least 10 percent of fiscal year 2009 Title I, Part A funds for professional development.

8. Waiver Applicant: DC Office of the State Superintendent of Education

• Provisions waived: Sections 1116(c)(7)(A)(iii) and 1116(b)(3)(A)(iii) of the ESEA, and 34 CFR 200.52(a)(3)(iii) and 34 CFR 200.41(c)(5).

• Date waiver granted: October 15, 2009.

• Description of waiver: Allows the LEA and schools in the District of Columbia that are in improvement, corrective action, or restructuring status to exclude all or part of the Title I, Part A ARRA funds when calculating their obligation to spend at least 10 percent of fiscal year 2009 Title I, Part A funds for professional development.

9. Waiver Applicant: Florida Department of Education

• Provisions waived: Sections 1116(c)(7)(A)(iii) and 1116(b)(3)(A)(iii) of the ESEA, and 34 CFR 200.52(a)(3)(iii) and 34 CFR 200.41(c)(5).

• Date waiver granted: September 23, 2009.

• Description of waiver: Allows LEAs and schools in Florida that are in improvement, corrective action, or restructuring status to exclude all or part of the Title I, Part A ARRA funds when calculating their obligation to spend at least 10 percent of fiscal year 2009 Title I, Part A funds for professional development.

10. Waiver Applicant: Georgia Department of Education

• Provisions waived: Sections 1116(c)(7)(A)(iii) and 1116(b)(3)(A)(iii) of the ESEA, and 34 CFR 200.52(a)(3)(iii) and 34 CFR 200.41(c)(5).

• Date waiver granted: August 13, 2009.

• Description of waiver: Allows LEAs and schools in Georgia that are in improvement, corrective action, or restructuring status to exclude all or part of the Title I, Part A ARRA funds when calculating their obligation to spend at least 10 percent of fiscal year 2009 Title I, Part A funds for professional development.

11. Waiver Applicant: Idaho Department of Education

• Provisions waived: Sections 1116(c)(7)(A)(iii) and 1116(b)(3)(A)(iii) of the ESEA, and 34 CFR 200.52(a)(3)(iii) and 34 CFR 200.41(c)(5).

• Date waiver granted: October 15, 2009.

• Description of waiver: Allows LEAs and schools in Idaho that are in improvement, corrective action, or restructuring status to exclude all or part of the Title I, Part A ARRA funds when calculating their obligation to spend at least 10 percent of fiscal year 2009 Title I, Part A funds for professional development.

12. Waiver Applicant: Illinois State Board of Education

• Provisions waived: Sections 1116(c)(7)(A)(iii) and 1116(b)(3)(A)(iii) of the ESEA, and 34 CFR 200.52(a)(3)(iii) and 34 CFR 200.41(c)(5).

• Date waiver granted: September 16, 2009.

• Description of waiver: Allows LEAs and schools in Illinois that are in improvement, corrective action, or restructuring status to exclude all or part of the Title I, Part A ARRA funds when calculating their obligation to spend at least 10 percent of fiscal year 2009 Title I, Part A funds for professional development.

13. Waiver Applicant: Indiana Department of Education

• Provisions waived: Sections 1116(c)(7)(A)(iii) and 1116(b)(3)(A)(iii) of the ESEA, and 34 CFR 200.52(a)(3)(iii) and 34 CFR 200.41(c)(5).

• Date waiver granted: September 23, 2009.

• Description of waiver: Allows LEAs and schools in Indiana that are in improvement, corrective action, or restructuring status to exclude all or part of the Title I, Part A ARRA funds when calculating their obligation to spend at least 10 percent of fiscal year 2009 Title I, Part A funds for professional development.

14. Waiver Applicant: Iowa Department of Education

• Provisions waived: Sections 1116(c)(7)(A)(iii) and 1116(b)(3)(A)(iii) of the ESEA, and 34 CFR 200.52(a)(3)(iii) and 34 CFR 200.41(c)(5).

• Date waiver granted: August 31, 2009.

• Description of waiver: Allows LEAs and schools in Iowa that are in improvement, corrective action, or restructuring status to exclude all or part of the Title I, Part A ARRA funds when calculating their obligation to spend at least 10 percent of fiscal year 2009 Title I, Part A funds for professional development.

15. Waiver Applicant: Kentucky Department of Education

• Provisions waived: Sections 1116(c)(7)(A)(iii) and 1116(b)(3)(A)(iii) of the ESEA, and 34 CFR 200.52(a)(3)(iii) and 34 CFR 200.41(c)(5).

• Date waiver granted: September 4, 2009.

• Description of waiver: Allows LEAs and schools in Kentucky that are in improvement, corrective action, or restructuring status to exclude all or part of the Title I, Part A ARRA funds when calculating their obligation to spend at least 10 percent of fiscal year 2009 Title I, Part A funds for professional development.

16. Waiver Applicant: Louisiana Department of Education

• Provisions waived: Sections 1116(c)(7)(A)(iii) and 1116(b)(3)(A)(iii) of the ESEA, and 34 CFR 200.52(a)(3)(iii) and 34 CFR 200.41(c)(5).

• Date waiver granted: August 27, 2009.

• Description of waiver: Allows LEAs and schools in Louisiana that are in improvement, corrective action, or restructuring status to exclude all or part of the Title I, Part A ARRA funds when calculating their obligation to spend at least 10 percent of fiscal year 2009 Title I, Part A funds for professional development.

17. Waiver Applicant: Maine Department of Education

• Provisions waived: Sections 1116(c)(7)(A)(iii) and 1116(b)(3)(A)(iii) of the ESEA, and 34 CFR 200.52(a)(3)(iii) and 34 CFR 200.41(c)(5).

• Date waiver granted: September 23, 2009.

• Description of waiver: Allows LEAs and schools in Maine that are in improvement, corrective action, or restructuring status to exclude all or part of the Title I, Part A ARRA funds when calculating their obligation to spend at least 10 percent of fiscal year 2009 Title I, Part A funds for professional development.

18. Waiver Applicant: Maryland Department of Education

• Provisions waived: Sections 1116(c)(7)(A)(iii) of the ESEA and 34 CFR 200.52(a)(3)(iii).

• Date waiver granted: November 2, 2009.

• Description of waiver: Allows LEAs in Maryland that are in improvement, corrective action, or restructuring status to exclude all or part of the Title I, Part A ARRA funds when calculating their obligation to spend at least 10 percent of fiscal year 2009 Title I, Part A funds for professional development.

19. Waiver Applicant: Massachusetts Department of Education

• Provisions waived: Sections 1116(c)(7)(A)(iii) and 1116(b)(3)(A)(iii) of the ESEA, and 34 CFR 200.52(a)(3)(iii) and 34 CFR 200.41(c)(5).

• Date waiver granted: August 24, 2009.

• Description of waiver: Allows LEAs and schools in Massachusetts that are in improvement, corrective action, or restructuring status to exclude all or part of the Title I, Part A ARRA funds when calculating their obligation to spend at least 10 percent of fiscal year 2009 Title I, Part A funds for professional development.

20. Waiver Applicant: Michigan Department of Education

• Provisions waived: Sections 1116(c)(7)(A)(iii) and 1116(b)(3)(A)(iii) of the ESEA, and 34 CFR 200.52(a)(3)(iii) and 34 CFR 200.41(c)(5).

• Date waiver granted: October 23, 2009.

• Description of waiver: Allows LEAs and schools in Michigan that are in improvement, corrective action, or restructuring status to exclude all or part of the Title I, Part A ARRA funds when calculating their obligation to spend at least 10 percent of fiscal year 2009 Title I, Part A funds for professional development.

21. Waiver Applicant: Missouri Department of Education

• Provisions waived: Sections 1116(c)(7)(A)(iii) and 1116(b)(3)(A)(iii) of the ESEA, and 34 CFR 200.52(a)(3)(iii) and 34 CFR 200.41(c)(5).

• Date waiver granted: August 7, 2009.

• Description of waiver: Allows LEAs and schools in Missouri that are in improvement, corrective action, or restructuring status to exclude all or part of the Title I, Part A ARRA funds when calculating their obligation to spend at least 10 percent of fiscal year 2009 Title I, Part A funds for professional development.

22. Waiver Applicant: Nebraska Department of Education

• Provisions waived: Sections 1116(c)(7)(A)(iii) and 1116(b)(3)(A)(iii) of the ESEA, and 34 CFR 200.52(a)(3)(iii) and 34 CFR 200.41(c)(5).

• Date waiver granted: August 26, 2009.

• Description of waiver: Allows LEAs and schools in Nebraska that are in improvement, corrective action, or restructuring status to exclude all or part of the Title I, Part A ARRA funds when calculating their obligation to spend at least 10 percent of fiscal year 2009 Title I, Part A funds for professional development.

23. Waiver Applicant: Nevada Department of Education

• Provisions waived: Sections 1116(c)(7)(A)(iii) and 1116(b)(3)(A)(iii) of the ESEA, and 34 CFR 200.52(a)(3)(iii) and 34 CFR 200.41(c)(5).

• Date waiver granted: October 8, 2009.

• Description of waiver: Allows LEAs and schools in Nevada that are in improvement, corrective action, or restructuring status to exclude all or part of the Title I, Part A ARRA funds when calculating their obligation to spend at least 10 percent of fiscal year 2009 Title I, Part A funds for professional development.

24. Waiver Applicant: New Hampshire Department of Education

• Provisions waived: Sections 1116(c)(7)(A)(iii) and 1116(b)(3)(A)(iii) of the ESEA, and 34 CFR 200.52(a)(3)(iii) and 34 CFR 200.41(c)(5).

• Date waiver granted: September 23, 2009.

• Description of waiver: Allows LEAs and schools in New Hampshire that are in improvement, corrective action, or restructuring status to exclude all or part of the Title I, Part A ARRA funds when calculating their obligation to spend at least 10 percent of fiscal year 2009 Title I, Part A funds for professional development.

25. Waiver Applicant: New Jersey Department of Education

• Provisions waived: Sections 1116(c)(7)(A)(iii) and 1116(b)(3)(A)(iii) of the ESEA, and 34 CFR 200.52(a)(3)(iii) and 34 CFR 200.41(c)(5).

• Date waiver granted: October 2, 2009.

• Description of waiver: Allows LEAs and schools in New Jersey that are in improvement, corrective action, or restructuring status to exclude all or part of the Title I, Part A ARRA funds when calculating their obligation to spend at least 10 percent of fiscal year 2009 Title I, Part A funds for professional development.

26. Waiver Applicant: New Mexico Department of Education

• Provisions waived: Sections 1116(c)(7)(A)(iii) and 1116(b)(3)(A)(iii) of the ESEA, and 34 CFR 200.52(a)(3)(iii) and 34 CFR 200.41(c)(5).

• Date waiver granted: August 31, 2009.

• Description of waiver: Allows LEAs and schools in New Mexico that are in improvement, corrective action, or restructuring status to exclude all or part of the Title I, Part A ARRA funds when calculating their obligation to spend at least 10 percent of fiscal year 2009 Title I, Part A funds for professional development.

27. Waiver Applicant: North Carolina Department of Public Instruction

• Provisions waived: Sections 1116(c)(7)(A)(iii) and 1116(b)(3)(A)(iii) of the ESEA, and 34 CFR 200.52(a)(3)(iii) and 34 CFR 200.41(c)(5).

• Date waiver granted: September 4, 2009.

• Description of waiver: Allows LEAs and schools in North Carolina that are in improvement, corrective action, or restructuring status to exclude all or part of the Title I, Part A ARRA funds when calculating their obligation to spend at least 10 percent of fiscal year 2009 Title I, Part A funds for professional development.

28. Waiver Applicant: North Dakota Department of Public Instruction

• Provisions waived: Sections 1116(c)(7)(A)(iii) and 1116(b)(3)(A)(iii) of the ESEA, and 34 CFR 200.52(a)(3)(iii) and 34 CFR 200.41(c)(5).

• Date waiver granted: October 2, 2009.

• Description of waiver: Allows LEAs and schools in North Dakota that are in improvement, corrective action, or restructuring status to exclude all or part of the Title I, Part A ARRA funds when calculating their obligation to spend at least 10 percent of fiscal year 2009 Title I, Part A funds for professional development.

29. Waiver Applicant: Ohio Department of Education

• Provisions waived: Sections 1116(c)(7)(A)(iii) and 1116(b)(3)(A)(iii) of the ESEA, and 34 CFR 200.52(a)(3)(iii) and 34 CFR 200.41(c)(5).

• Date waiver granted: August 14, 2009.

• Description of waiver: Allows LEAs and schools in Ohio that are in improvement, corrective action, or restructuring status to exclude all or part of the Title I, Part A ARRA funds when calculating their obligation to spend at least 10 percent of fiscal year 2009 Title I, Part A funds for professional development.

30. Waiver Applicant: Oklahoma Department of Education

• Provisions waived: Sections 1116(c)(7)(A)(iii) and 1116(b)(3)(A)(iii) of the ESEA, and 34 CFR 200.52(a)(3)(iii) and 34 CFR 200.41(c)(5).

• Date waiver granted: October 15, 2009.

• Description of waiver: Allows LEAs and schools in Oklahoma that are in improvement, corrective action, or restructuring status to exclude all or part of the Title I, Part A ARRA funds when calculating their obligation to spend at least 10 percent of fiscal year 2009 Title I, Part A funds for professional development.

31. Waiver Applicant: Oregon Department of Education

• Provisions waived: Sections 1116(c)(7)(A)(iii) and 1116(b)(3)(A)(iii) of the ESEA, and 34 CFR 200.52(a)(3)(iii) and 34 CFR 200.41(c)(5).

• Date waiver granted: October 23, 2009.

• Description of waiver: Allows LEAs and schools in Oregon that are in improvement, corrective action, or restructuring status to exclude all or part of the Title I, Part A ARRA funds when calculating their obligation to spend at least 10 percent of fiscal year 2009 Title I, Part A funds for professional development.

32. Waiver Applicant: Pennsylvania Department of Education

• Provisions waived: Sections 1116(c)(7)(A)(iii) and 1116(b)(3)(A)(iii) of the ESEA, and 34 CFR 200.52(a)(3)(iii) and 34 CFR 200.41(c)(5).

• Date waiver granted: August 27, 2009.

• Description of waiver: Allows LEAs and schools in Pennsylvania that are in improvement, corrective action, or restructuring status to exclude all or part of the Title I, Part A ARRA funds when calculating their obligation to spend at least 10 percent of fiscal year 2009 Title I, Part A funds for professional development.

33. Waiver Applicant: Rhode Island Department of Education

• Provisions waived: Sections 1116(c)(7)(A)(iii) and 1116(b)(3)(A)(iii) of the ESEA, and 34 CFR 200.52(a)(3)(iii) and 34 CFR 200.41(c)(5).

• Date waiver granted: August 24, 2009.

• Description of waiver: Allows LEAs and schools in Rhode Island that are in improvement, corrective action, or restructuring status to exclude all or part of the Title I, Part A ARRA funds when calculating their obligation to spend at least 10 percent of fiscal year 2009 Title I, Part A funds for professional development.

34. Waiver Applicant: South Carolina Department of Education

• Provisions waived: Sections 1116(c)(7)(A)(iii) and 1116(b)(3)(A)(iii) of the ESEA, and 34 CFR 200.52(a)(3)(iii) and 34 CFR 200.41(c)(5).

• Date waiver granted: September 9, 2009.

• Description of waiver: Allows LEAs and schools in South Carolina that are in improvement, corrective action, or restructuring status to exclude all or part of the Title I, Part A ARRA funds when calculating their obligation to spend at least 10 percent of fiscal year 2009 Title I, Part A funds for professional development.

35. Waiver applicant: South Dakota Department of Education

• Provisions waived: Sections 1116(c)(7)(A)(iii) and 1116(b)(3)(A)(iii) of the ESEA, and 34 CFR 200.52(a)(3)(iii) and 34 CFR 200.41(c)(5).

• Date waiver granted: August 14, 2009.

• Description of waiver: Allows LEAs and schools in South Dakota that are in improvement, corrective action, or restructuring status to exclude all or part of the Title I, Part A ARRA funds when calculating their obligation to spend at least 10 percent of fiscal year 2009 Title I, Part A funds for professional development.

36. Waiver Applicant: Tennessee Department of Education

• Provisions waived: Sections 1116(c)(7)(A)(iii) and 1116(b)(3)(A)(iii) of the ESEA, and 34 CFR 200.52(a)(3)(iii) and 34 CFR 200.41(c)(5).

• Date waiver granted: August 27, 2009.

• Description of waiver: Allows LEAs and schools in Tennessee that are in improvement, corrective action, or restructuring status to exclude all or part of the Title I, Part A ARRA funds when calculating their obligation to spend at least 10 percent of fiscal year 2009 Title I, Part A funds for professional development.

37. Waiver Applicant: Virginia Department of Education

• Provisions waived: Sections 1116(c)(7)(A)(iii) of the ESEA and 34 CFR 200.52(a)(3)(iii).

• Date waiver granted: October 8, 2009.

• Description of waiver: Allows LEAs in Virginia that are in improvement, corrective action, or restructuring status to exclude all or part of the Title I, Part A ARRA funds when calculating their obligation to spend at least 10 percent of fiscal year 2009 Title I, Part A funds for professional development.

38. Waiver Applicant: Washington Department of Education

• Provisions waived: Sections 1116(c)(7)(A)(iii) and 1116(b)(3)(A)(iii) of the ESEA, and 34 CFR 200.52(a)(3)(iii) and 34 CFR 200.41(c)(5).

• Date waiver granted: August 31, 2009.

• Description of waiver: Allows LEAs and schools in Washington that are in improvement, corrective action, or restructuring status to exclude all or part of the Title I, Part A ARRA funds when calculating their obligation to spend at least 10 percent of fiscal year 2009 Title I, Part A funds for professional development.

39. Waiver Applicant: Wisconsin Department of Public Instruction

• Provisions waived: Sections 1116(c)(7)(A)(iii) and 1116(b)(3)(A)(iii) of the ESEA, and 34 CFR 200.52(a)(3)(iii) and 34 CFR 200.41(c)(5).

• Date waiver granted: August 13, 2009.

• Description of waiver: Allows LEAs and schools in Wisconsin that are in improvement, corrective action, or restructuring status to exclude all or part of the Title I, Part A ARRA funds when calculating their obligation to spend at least 10 percent of fiscal year 2009 Title I, Part A funds for professional development.

40. Waiver Applicant: Wyoming Department of Education

• Provisions waived: Sections 1116(c)(7)(A)(iii) and 1116(b)(3)(A)(iii) of the ESEA, and 34 CFR 200.52(a)(3)(iii) and 34 CFR 200.41(c)(5).

• Date waiver granted: September 16, 2009.

• Description of waiver: Allows LEAs and schools in Wyoming that are in improvement, corrective action, or restructuring status to exclude all or part of the Title I, Part A ARRA funds when calculating their obligation to spend at least 10 percent of fiscal year 2009 Title I, Part A funds for professional development.

C. Allowing an LEA To Exclude Title I, Part A Funds Received Under ARRA When Calculating the Per-Pupil Amount for SES

1. Waiver Applicant: Alabama Department of Education

• Provisions waived: Section 1116(e)(6) of the ESEA and 34 CFR 200.48(c)(1).

• Date waiver granted: August 14, 2009.

• Description of waiver: Allows LEAs in Alabama to exclude all or part of their Title I, Part A ARRA funds when calculating the per-pupil amount for SES.

2. Waiver Applicant: Alaska Department of Education

• Provisions waived: Section 1116(e)(6) of the ESEA and 34 CFR 200.48(c)(1).

• Date waiver granted: August 13, 2009.

• Description of waiver: Allows LEAs in Alaska to exclude all or part of their Title I, Part A ARRA funds when calculating the per-pupil amount for SES.

3. Waiver Applicant: Arizona Department of Education

• Provisions waived: Section 1116(e)(6) of the ESEA and 34 CFR 200.48(c)(1).

• Date waiver granted: September 16, 2009.

• Description of waiver: Allows LEAs in Arizona to exclude all or part of their Title I, Part A ARRA funds when calculating the per-pupil amount for SES.

4. Waiver Applicant: Arkansas Department of Education

• Provisions waived: Section 1116(e)(6) of the ESEA and 34 CFR 200.48(c)(1).

• Date waiver granted: October 23, 2009.

• Description of waiver: Allows LEAs in Arkansas to exclude all or part of their Title I, Part A ARRA funds when calculating the per-pupil amount for SES.

5. Waiver Applicant: California Department of Education

• Provisions waived: Section 1116(e)(6) of the ESEA and 34 CFR 200.48(c)(1).

• Date waiver granted: December 11, 2009.

• Description of waiver: Allows LEAs in California to exclude all or part of their Title I, Part A ARRA funds when calculating the per-pupil amount for SES.

6. Waiver Applicant: Colorado Department of Education

• Provisions waived: Section 1116(e)(6) of the ESEA and 34 CFR 200.48(c)(1).

• Date waiver granted: August 11, 2009.

• Description of waiver: Allows LEAs in Colorado to exclude all or part of their Title I, Part A ARRA funds when calculating the per-pupil amount for SES.

7. Waiver Applicant: Connecticut Department of Education

• Provisions waived: Section 1116(e)(6) of the ESEA and 34 CFR 200.48(c)(1).

• Date waiver granted: September 11, 2009.

• Description of waiver: Allows LEAs in Connecticut to exclude all or part of their Title I, Part A ARRA funds when calculating the per-pupil amount for SES.

8. Waiver Applicant: DC Office of the State Superintendent of Education

• Provisions waived: Section 1116(e)(6) of the ESEA and 34 CFR 200.48(c)(1).

• Date waiver granted: October 15, 2009.

• Description of waiver: Allows the District of Columbia LEA to exclude all or part of its Title I, Part A ARRA funds when calculating the per-pupil amount for SES.

9. Waiver Applicant: Florida Department of Education

• Provisions waived: Section 1116(e)(6) of the ESEA and 34 CFR 200.48(c)(1).

• Date waiver granted: September 23, 2009.

• Description of waiver: Allows LEAs in Florida to exclude all or part of their Title I, Part A ARRA funds when calculating the per-pupil amount for SES.

10. Waiver Applicant: Georgia Department of Education

• Provisions waived: Section 1116(e)(6) of the ESEA and 34 CFR 200.48(c)(1).

• Date waiver granted: August 13, 2009.

• Description of waiver: Allows LEAs in Georgia to exclude all or part of their Title I, Part A ARRA funds when calculating the per-pupil amount for SES.

11. Waiver Applicant: Idaho Department of Education

• Provisions waived: Section 1116(e)(6) of the ESEA and 34 CFR 200.48(c)(1).

• Date waiver granted: October 15, 2009.

• Description of waiver: Allows LEAs in Idaho to exclude all or part of their Title I, Part A ARRA funds when calculating the per-pupil amount for SES.

12. Waiver Applicant: Illinois State Board of Education

• Provisions waived: Section 1116(e)(6) of the ESEA and 34 CFR 200.48(c)(1).

• Date waiver granted: September 16, 2009.

• Description of waiver: Allows LEAs in Illinois to exclude all or part of their Title I, Part A ARRA funds when calculating the per-pupil amount for SES.

13. Waiver Applicant: Indiana Department of Education

• Provisions waived: Section 1116(e)(6) of the ESEA and 34 CFR 200.48(c)(1).

• Date waiver granted: September 23, 2009.

• Description of waiver: Allows LEAs in Indiana to exclude all or part of their Title I, Part A ARRA funds when calculating the per-pupil amount for SES.

14. Waiver Applicant: Iowa Department of Education

• Provisions waived: Section 1116(e)(6) of the ESEA and 34 CFR 200.48(c)(1).

• Date waiver granted: August 31, 2009.

• Description of waiver: Allows LEAs in Iowa to exclude all or part of their Title I, Part A ARRA funds when calculating the per-pupil amount for SES.

15. Waiver Applicant: Kentucky Department of Education

• Provisions waived: Section 1116(e)(6) of the ESEA and 34 CFR 200.48(c)(1).

• Date waiver granted: September 4, 2009.

• Description of waiver: Allows LEAs in Kentucky to exclude all or part of their Title I, Part A ARRA funds when calculating the per-pupil amount for SES.

16. Waiver Applicant: Louisiana Department of Education

• Provisions waived: Section 1116(e)(6) of the ESEA and 34 CFR 200.48(c)(1).

• Date waiver granted: August 27, 2009.

• Description of waiver: Allows LEAs in Louisiana to exclude all or part of their Title I, Part A ARRA funds when calculating the per-pupil amount for SES.

17. Waiver Applicant: Maine Department of Education

• Provisions waived: Section 1116(e)(6) of the ESEA and 34 CFR 200.48(c)(1).

• Date waiver granted: September 23, 2009.

• Description of waiver: Allows LEAs in Maine to exclude all or part of their Title I, Part A ARRA funds when calculating the per-pupil amount for SES.

18. Waiver Applicant: Maryland Department of Education

• Provisions waived: Section 1116(e)(6) of the ESEA and 34 CFR 200.48(c)(1).

• Date waiver granted: December 4, 2009.

• Description of waiver: Allows LEAs in Maryland to exclude all or part of their Title I, Part A ARRA funds when calculating the per-pupil amount for SES.

19. Waiver Applicant: Massachusetts Department of Education

• Provisions waived: Section 1116(e)(6) of the ESEA and 34 CFR 200.48(c)(1).

• Date waiver granted: August 24, 2009.

• Description of waiver: Allows LEAs in Massachusetts to exclude all or part of their Title I, Part A ARRA funds when calculating the per-pupil amount for SES.

20. Waiver Applicant: Michigan Department of Education

• Provisions waived: Section 1116(e)(6) of the ESEA and 34 CFR 200.48(c)(1).

• Date waiver granted: September 23, 2009.

• Description of waiver: Allows LEAs in Michigan to exclude all or part of their Title I, Part A ARRA funds when calculating the per-pupil amount for SES.

21. Waiver Applicant: Missouri Department of Education

• Provisions waived: Section 1116(e)(6) of the ESEA and 34 CFR 200.48(c)(1).

• Date waiver granted: August 7, 2009.

• Description of waiver: Allows LEAs in Missouri to exclude all or part of their Title I, Part A ARRA funds when calculating the per-pupil amount for SES.

22. Waiver Applicant: Nebraska Department of Education

• Provisions waived: Section 1116(e)(6) of the ESEA and 34 CFR 200.48(c)(1).

• Date waiver granted: August 26, 2009.

• Description of waiver: Allows LEAs in Nebraska to exclude all or part of their Title I, Part A ARRA funds when calculating the per-pupil amount for SES.

23. Waiver Applicant: Nevada Department of Education

• Provisions waived: Section 1116(e)(6) of the ESEA and 34 CFR 200.48(c)(1).

• Date waiver granted: October 8, 2009.

• Description of waiver: Allows LEAs in Nevada to exclude all or part of their Title I, Part A ARRA funds when calculating the per-pupil amount for SES.

24. Waiver Applicant: New Hampshire Department of Education

• Provisions waived: Section 1116(e)(6) of the ESEA and 34 CFR 200.48(c)(1).

• Date waiver granted: September 23, 2009.

• Description of waiver: Allows LEAs in New Hampshire to exclude all or part of their Title I, Part A ARRA funds when calculating the per-pupil amount for SES.

25. Waiver Applicant: New Jersey Department of Education

• Provisions waived: Section 1116(e)(6) of the ESEA and 34 CFR 200.48(c)(1).

• Date waiver granted: October 2, 2009.

• Description of waiver: Allows LEAs in New Jersey to exclude all or part of their Title I, Part A ARRA funds when calculating the per-pupil amount for SES.

26. Waiver Applicant: New Mexico Department of Education

• Provisions waived: Section 1116(e)(6) of the ESEA and 34 CFR 200.48(c)(1).

• Date waiver granted: August 31, 2009.

• Description of waiver: Allows LEAs in New Mexico to exclude all or part of their Title I, Part A ARRA funds when calculating the per-pupil amount for SES.

27. Waiver Applicant: North Carolina Department of Public Instruction

• Provisions waived: Section 1116(e)(6) of the ESEA and 34 CFR 200.48(c)(1).

• Date waiver granted: September 4, 2009.

• Description of waiver: Allows LEAs in North Carolina to exclude all or part of their Title I, Part A ARRA funds when calculating the per-pupil amount for SES.

28. Waiver Applicant: North Dakota Department of Public Instruction

• Provisions waived: Section 1116(e)(6) of the ESEA and 34 CFR 200.48(c)(1).

• Date waiver granted: October 2, 2009.

• Description of waiver: Allows LEAs in North Dakota to exclude all or part of their Title I, Part A ARRA funds when calculating the per-pupil amount for SES.

29. Waiver Applicant: Ohio Department of Education

• Provisions waived: Section 1116(e)(6) of the ESEA and 34 CFR 200.48(c)(1).

• Date waiver granted: August 14, 2009.

• Description of waiver: Allows LEAs in Ohio to exclude all or part of their Title I, Part A ARRA funds when calculating the per-pupil amount for SES.

30. Waiver Applicant: Oklahoma Department of Education

• Provisions waived: Section 1116(e)(6) of the ESEA and 34 CFR 200.48(c)(1).

• Date waiver granted: October 15, 2009.

• Description of waiver: Allows LEAs in Oklahoma to exclude all or part of their Title I, Part A ARRA funds when calculating the per-pupil amount for SES.

31. Waiver Applicant: Oregon Department of Education

• Provisions waived: Section 1116(e)(6) of the ESEA and 34 CFR 200.48(c)(1).

• Date waiver granted: October 23, 2009.

• Description of waiver: Allows LEAs in Oregon to exclude all or part of their Title I, Part A ARRA funds when calculating the per-pupil amount for SES.

32. Waiver Applicant: Pennsylvania Department of Education

• Provisions waived: Section 1116(e)(6) of the ESEA and 34 CFR 200.48(c)(1).

• Date waiver granted: August 27, 2009.

• Description of waiver: Allows LEAs in Pennsylvania to exclude all or part of their Title I, Part A ARRA funds when calculating the per-pupil amount for SES.

33. Waiver Applicant: Rhode Island Department of Education

• Provisions waived: Section 1116(e)(6) of the ESEA and 34 CFR 200.48(c)(1).

• Date waiver granted: August 24, 2009.

• Description of waiver: Allows LEAs in Rhode Island to exclude all or part of their Title I, Part A ARRA funds when calculating the per-pupil amount for SES.

34. Waiver Applicant: South Carolina Department of Education

• Provisions waived: Section 1116(e)(6) of the ESEA and 34 CFR 200.48(c)(1).

• Date waiver granted: September 9, 2009.

• Description of waiver: Allows LEAs in South Carolina to exclude all or part of their Title I, Part A ARRA funds when calculating the per-pupil amount for SES.

35. Waiver Applicant: South Dakota Department of Education

• Provisions waived: Section 1116(e)(6) of the ESEA and 34 CFR 200.48(c)(1).

• Date waiver granted: August 14, 2009.

• Description of waiver: Allows LEAs in South Dakota to exclude all or part of their Title I, Part A ARRA funds when calculating the per-pupil amount for SES.

36. Waiver Applicant: Tennessee Department of Education

• Provisions waived: Section 1116(e)(6) of the ESEA and 34 CFR 200.48(c)(1).

• Date waiver granted: August 27, 2009.

• Description of waiver: Allows LEAs in Tennessee to exclude all or part of their Title I, Part A ARRA funds when calculating the per-pupil amount for SES.

37. Waiver Applicant: Virginia Department of Education

• Provisions waived: Section 1116(e)(6) of the ESEA and 34 CFR 200.48(c)(1).

• Date waiver granted: October 8, 2009.

• Description of waiver: Allows LEAs in Virginia to exclude all or part of their Title I, Part A ARRA funds when calculating the per-pupil amount for SES.

38. Waiver Applicant: Washington Department of Education

• Provisions waived: Section 1116(e)(6) of the ESEA and 34 CFR 200.48(c)(1).

• Date waiver granted: August 31, 2009.

• Description of waiver: Allows LEAs in Washington to exclude all or part of their Title I, Part A ARRA funds when calculating the per-pupil amount for SES.

39. Waiver Applicant: Wisconsin Department of Public Instruction

• Provisions waived: Section 1116(e)(6) of the ESEA and 34 CFR 200.48(c)(1).

• Date waiver granted: August 13, 2009.

• Description of waiver: Allows LEAs in Wisconsin to exclude all or part of their Title I, Part A ARRA funds when calculating the per-pupil amount for SES.

40. Waiver Applicant: Wyoming Department of Education

• Provisions waived: Section 1116(e)(6) of the ESEA and 34 CFR 200.48(c)(1).

• Date waiver granted: September 16, 2009.

• Description of waiver: Allows LEAs in Wyoming to exclude all or part of their Title I, Part A ARRA funds when calculating the per-pupil amount for SES.

D. Authorizing an SEA To Waive the Carryover Limitation for an LEA That Needs an Additional Waiver Because of its Receipt of Title I, Part A ARRA Funds

1. Waiver Applicant: Alabama Department of Education

• Provisions waived: Section 1127(a) of the ESEA.

• Date waiver granted: August 14, 2009.

• Description of waiver: Authorizes Alabama to waive the carryover limitation more than once within three years for an LEA that needs a second (or third) waiver because of its receipt of Title I, Part A ARRA funds.

2. Waiver Applicant: Alaska Department of Education

• Provisions waived: Section 1127(a) of the ESEA.

• Date waiver granted: August 13, 2009.

• Description of waiver: Authorizes Alaska to waive the carryover limitation more than once within three years for an LEA that needs a second (or third) waiver because of its receipt of Title I, Part A ARRA funds.

3. Waiver Applicant: Arizona Department of Education

• Provisions waived: Section 1127(a) of the ESEA.

• Date waiver granted: September 16, 2009.

• Description of waiver: Authorizes Arizona to waive the carryover limitation more than once within three years for an LEA that needs a second (or third) waiver because of its receipt of Title I, Part A ARRA funds.

4. Waiver Applicant: Arkansas Department of Education

• Provisions waived: Section 1127(a) of the ESEA.

• Date waiver granted: October 23, 2009.

• Description of waiver: Authorizes Arkansas to waive the carryover limitation more than once within three years for an LEA that needs a second (or third) waiver because of its receipt of Title I, Part A ARRA funds.

5. Waiver Applicant: California Department of Education

• Provisions waived: Section 1127(a) of the ESEA.

• Date waiver granted: October 23, 2009.

• Description of waiver: Authorizes California to waive the carryover limitation more than once within three years for an LEA that needs a second (or third) waiver because of its receipt of Title I, Part A ARRA funds.

6. Waiver Applicant: Connecticut Department of Education

• Provisions waived: Section 1127(a) of the ESEA.

• Date waiver granted: September 11, 2009.

• Description of waiver: Authorizes Connecticut to waive the carryover limitation more than once within three years for an LEA that needs a second (or third) waiver because of its receipt of Title I, Part A ARRA funds.

7. Waiver Applicant: DC Office of the State Superintendent of Education

• Provisions waived: Section 1127(a) of the ESEA.

• Date waiver granted: October 15, 2009.

• Description of waiver: Authorizes the District of Columbia to waive the carryover limitation more than once within three years for its LEA if it needs a second (or third) waiver because of its receipt of Title I, Part A ARRA funds.

8. Waiver Applicant: Florida Department of Education

• Provisions waived: Section 1127(a) of the ESEA.

• Date waiver granted: September 23, 2009.

• Description of waiver: Authorizes Florida to waive the carryover limitation more than once within three years for an LEA that needs a second (or third) waiver because of its receipt of Title I, Part A ARRA funds.

9. Waiver Applicant: Georgia Department of Education

• Provisions waived: Section 1127(a) of the ESEA.

• Date waiver granted: August 13, 2009.

• Description of waiver: Authorizes Georgia to waive the carryover limitation more than once within three years for an LEA that needs a second (or third) waiver because of its receipt of Title I, Part A ARRA funds.

10. Waiver Applicant: Idaho Department of Education

• Provisions waived: Section 1127(a) of the ESEA.

• Date waiver granted: October 15, 2009.

• Description of waiver: Authorizes Idaho to waive the carryover limitation more than once within three years for an LEA that needs a second (or third) waiver because of its receipt of Title I, Part A ARRA funds.

11. Waiver Applicant: Illinois State Board of Education

• Provisions waived: Section 1127(a) of the ESEA.

• Date waiver granted: October 23, 2009.

• Description of waiver: Authorizes Illinois to waive the carryover limitation more than once within three years for an LEA that needs a second (or third) waiver because of its receipt of Title I, Part A ARRA funds.

12. Waiver Applicant: Indiana Department of Education

• Provisions waived: Section 1127(a) of the ESEA.

• Date waiver granted: October 23, 2009.

• Description of waiver: Authorizes Indiana to waive the carryover limitation more than once within three years for an LEA that needs a second (or third) waiver because of its receipt of Title I, Part A ARRA funds.

13. Waiver Applicant: Iowa Department of Education

• Provisions waived: Section 1127(a) of the ESEA.

• Date waiver granted: August 31, 2009.

• Description of waiver: Authorizes Iowa to waive the carryover limitation more than once within three years for an LEA that needs a second (or third) waiver because of its receipt of Title I, Part A ARRA funds.

14. Waiver Applicant: Kentucky Department of Education

• Provisions waived: Section 1127(a) of the ESEA.

• Date waiver granted: September 4, 2009.

• Description of waiver: Authorizes Kentucky to waive the carryover limitation more than once within three years for an LEA that needs a second (or third) waiver because of its receipt of Title I, Part A ARRA funds.

15. Waiver Applicant: Louisiana Department of Education

• Provisions waived: Section 1127(a) of the ESEA.

• Date waiver granted: August 27, 2009.

• Description of waiver: Authorizes Louisiana to waive the carryover limitation more than once within three years for an LEA that needs a second (or third) waiver because of its receipt of Title I, Part A ARRA funds.

16. Waiver Applicant: Maine Department of Education

• Provisions waived: Section 1127(a) of the ESEA.

• Date waiver granted: September 23, 2009.

• Description of waiver: Authorizes Maine to waive the carryover limitation more than once within three years for an LEA that needs a second (or third) waiver because of its receipt of Title I, Part A ARRA funds.

17. Waiver Applicant: Maryland Department of Education

• Provisions waived: Section 1127(a) of the ESEA.

• Date waiver granted: November 20, 2009.

• Description of waiver: Authorizes Maryland to waive the carryover limitation more than once within three years for an LEA that needs a second (or third) waiver because of its receipt of Title I, Part A ARRA funds.

18. Waiver Applicant: Michigan Department of Education

• Provisions waived: Section 1127(a) of the ESEA.

• Date waiver granted: September 23, 2009.

• Description of waiver: Authorizes Michigan to waive the carryover limitation more than once within three years for an LEA that needs a second (or third) waiver because of its receipt of Title I, Part A ARRA funds.

19. Waiver Applicant: Missouri Department of Education

• Provisions waived: Section 1127(a) of the ESEA.

• Date waiver granted: August 7, 2009.

• Description of waiver: Authorizes Missouri to waive the carryover limitation more than once within three years for an LEA that needs a second (or third) waiver because of its receipt of Title I, Part A ARRA funds.

20. Waiver Applicant: Nebraska Department of Education

• Provisions waived: Section 1127(a) of the ESEA.

• Date waiver granted: August 26, 2009.

• Description of waiver: Authorizes Nebraska to waive the carryover limitation more than once within three years for an LEA that needs a second (or third) waiver because of its receipt of Title I, Part A ARRA funds.

21. Waiver Applicant: Nevada Department of Education

• Provisions waived: Section 1127(a) of the ESEA.

• Date waiver granted: October 8, 2009.

• Description of waiver: Authorizes Nevada to waive the carryover limitation more than once within three years for an LEA that needs a second (or third) waiver because of its receipt of Title I, Part A ARRA funds.

22. Waiver Applicant: New Hampshire Department of Education

• Provisions waived: Section 1127(a) of the ESEA.

• Date waiver granted: September 23, 2009.

• Description of waiver: Authorizes New Hampshire to waive the carryover limitation more than once within three years for an LEA that needs a second (or third) waiver because of its receipt of Title I, Part A ARRA funds.

23. Waiver Applicant: New Jersey Department of Education

• Provisions waived: Section 1127(a) of the ESEA.

• Date waiver granted: October 2, 2009.

• Description of waiver: Authorizes New Jersey to waive the carryover limitation more than once within three years for an LEA that needs a second (or third) waiver because of its receipt of Title I, Part A ARRA funds.

24. Waiver Applicant: New Mexico Department of Education

• Provisions waived: Section 1127(a) of the ESEA.

• Date waiver granted: August 31, 2009.

• Description of waiver: Authorizes New Mexico to waive the carryover limitation more than once within three years for an LEA that needs a second (or third) waiver because of its receipt of Title I, Part A ARRA funds.

25. Waiver Applicant: North Dakota Department of Public Instruction

• Provisions waived: Section 1127(a) of the ESEA.

• Date waiver granted: October 2, 2009.

• Description of waiver: Authorizes North Dakota to waive the carryover limitation more than once within three years for an LEA that needs a second (or third) waiver because of its receipt of Title I, Part A ARRA funds.

26. Waiver Applicant: Ohio Department of Education

• Provisions waived: Section 1127(a) of the ESEA.

• Date waiver granted: August 14, 2009.

• Description of waiver: Authorizes Ohio to waive the carryover limitation more than once within three years for an LEA that needs a second (or third) waiver because of its receipt of Title I, Part A ARRA funds.

27. Waiver Applicant: Oklahoma Department of Education

• Provisions waived: Section 1127(a) of the ESEA.

• Date waiver granted: October 15, 2009.

• Description of waiver: Authorizes Oklahoma to waive the carryover limitation more than once within three years for an LEA that needs a second (or third) waiver because of its receipt of Title I, Part A ARRA funds.

28. Waiver Applicant: Rhode Island Department of Education

• Provisions waived: Section 1127(a) of the ESEA.

• Date waiver granted: August 24, 2009.

• Description of waiver: Authorizes Rhode Island to waive the carryover limitation more than once within three years for an LEA that needs a second (or third) waiver because of its receipt of Title I, Part A ARRA funds.

29. Waiver Applicant: South Carolina Department of Education

• Provisions waived: Section 1127(a) of the ESEA.

• Date waiver granted: September 9, 2009.

• Description of waiver: Authorizes South Carolina to waive the carryover limitation more than once within three years for an LEA that needs a second (or third) waiver because of its receipt of Title I, Part A ARRA funds.

30. Waiver Applicant: South Dakota Department of Education

• Provisions waived: Section 1127(a) of the ESEA.

• Date waiver granted: August 14, 2009.

• Description of waiver: Authorizes South Dakota to waive the carryover limitation more than once within three years for an LEA that needs a second (or third) waiver because of its receipt of Title I, Part A ARRA funds.

31. Waiver Applicant: Tennessee Department of Education

• Provisions waived: Section 1127(a) of the ESEA.

• Date waiver granted: August 27, 2009.

• Description of waiver: Authorizes Tennessee to waive the carryover limitation more than once within three years for an LEA that needs a second (or third) waiver because of its receipt of Title I, Part A ARRA funds.

32. Waiver Applicant: Virginia Department of Education

• Provisions waived: Section 1127(a) of the ESEA.

• Date waiver granted: October 8, 2009.

• Description of waiver: Authorizes Virginia to waive the carryover limitation more than once within three years for an LEA that needs a second (or third) waiver because of its receipt of Title I, Part A ARRA funds.

33. Waiver Applicant: Washington Department of Education

• Provisions waived: Section 1127(a) of the ESEA.

• Date waiver granted: August 31, 2009.

• Description of waiver: Authorizes Washington to waive the carryover limitation more than once within three years for an LEA that needs a second (or third) waiver because of its receipt of Title I, Part A ARRA funds.

34. Waiver Applicant: West Virginia Department of Education

• Provisions waived: Section 1127(a) of the ESEA.

• Date waiver granted: August 24, 2009.

• Description of waiver: Authorizes West Virginia to waive the carryover limitation more than once within three years for an LEA that needs a second (or third) waiver because of its receipt of Title I, Part A ARRA funds.

35. Waiver Applicant: Wisconsin Department of Public Instruction

• Provisions waived: Section 1127(a) of the ESEA.

• Date waiver granted: August 13, 2009.

• Description of waiver: Authorizes Wisconsin to waive the carryover limitation more than once within three years for an LEA that needs a second (or third) waiver because of its receipt of Title I, Part A ARRA funds.

36. Waiver Applicant: Wyoming Department of Education

• Provisions waived: Section 1127(a) of the ESEA.

• Date waiver granted: September 16, 2009.

• Description of waiver: Authorizes Wyoming to waive the carryover limitation more than once within three years for an LEA that needs a second (or third) waiver because of its receipt of Title I, Part A ARRA funds.

FOR FURTHER INFORMATION CONTACT: Luz Curet, U.S. Department of Education, 400 Maryland Avenue, SW., room 3W344, Washington, DC 20202. Telephone: (202) 205-3728 or by e-mail: luz.curet@ed.gov.

If you use a telecommunications device for the deaf (TDD), call the Federal Relay Service (FRS), toll free, at 1-800-877-8339. Individuals with disabilities can obtain this document in an accessible format (e.g., braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Dated: September 10, 2010.
Thelma Meléndez de Santa Ana,
Assistant Secretary for Elementary and Secondary Education.

[FR Doc. 2010-22986 Filed 9-15-10; 8:45 am]

BILLING CODE 4000-01-P